DEPARTMENT OF ENERGY

Federal Energy Regulatory Commission

18 CFR Part 35

[Docket No. RM23-9-000]

Filing Process and Data Collection for the Electric Quarterly Report

AGENCY: Federal Energy Regulatory Commission, Department of Energy.

ACTION: Notice of proposed rulemaking.

SUMMARY: The Federal Energy Regulatory Commission (Commission or FERC) proposes various changes to current Electric Quarterly Report (EQR) filing requirements, including both the method of collection and the data being collected. The proposed changes are designed to update the data collection, improve data quality, increase market transparency, decrease costs, over time, of preparing the necessary data for submission, and streamline compliance with any future filing requirements. Among other things, the Commission proposes to implement a new collection method for EQR reporting based on the eXtensible Business Reporting Language-Comma-Separated Values standard; amend its regulations to require Regional Transmission Organizations and Independent System Operators to produce reports containing market participant transaction data; and modify or clarify EQR reporting requirements.

DATES: Comments are due December 26, 2023.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ For delivery via any other carrier (including courier): Deliver to: Federal Energy Regulatory Commission, 12225 Wilkins Avenue, Rockville, MD 20852.

The Comment Procedures Section of this document contains more detailed filing procedures.

FOR FURTHER INFORMATION CONTACT:

Marina Fishbein (Technical Information), Office of Enforcement, Federal Energy Regulatory Commission, 888 First Street NE, Washington, DC 20426, (202) 502-6671

Soheila Mansouri (Technical Information), Office of Enforcement, Federal Energy Regulatory Commission, 888 First Street NE, Washington, DC 20426, (202) 502-6808

Mark Byrd (Legal Information), Office of General Counsel, Federal Energy Regulatory Commission, 888 First Street NE, Washington, DC 20426, (202) 502-8071

SUPPLEMENTARY INFORMATION:

Table of Contents

| Paragraph Nos.
I. Background | 1
II. Summary | 4
III. Discussion | 5
A. XBRL-CSV Standard | 5
1. Adoption of New EQR System Based on XBRL-CSV Standard | 5
2. FERC Templates Based on XBRL-CSV Standard | 10
3. Process for Developing XBRL-CSV based EQR System | 12
4. Process for Making Future Changes | 14
B. RTO/ISO Sales Data and Transaction Data Reports | 15
C. Extended Filing Timeline | 18
D. Refiling Policy | 22
IV. Modification of Reporting Requirements | 29
A. Elimination of Certain Data Fields and Associated Characteristics | 29
1. BA-Billing Adjustments | 32
2. Transmission Capacity Reassignment Data | 33
3. Reporting of Index Price Publisher Information | 39
4. Reporting of Exchange and Broker Information | 41
B. Modifications to Identification, Contract, Transaction Data Reporting Requirements, and Index Reporting Data | 43
1. Company Name (Current Field Nos. 2, 16 and 46) | 44
2. Company Identifier (Current Field No. 3) | 47
3. Contact Name (Current Field No. 4) | 48
4. Contact Title and Address (Current Field Nos. 5-10) | 50
5. Contact Phone (Current Field No. 11) | 51
6. Contact Email (Current Field No. 12) | 52
7. Filing Quarter (Current Field No. 14) | 53
8. Filing Year (Proposed New Field) | 54
9. Customer Is RTO/ISO (Proposed New Field) and Customer Company Name (Current Field Nos. 17 and 47) | 55
10. Contract Affiliate (Current Field No. 18) | 58
11. FERC Tariff Reference (Current Field Nos. 19 and 48) | 59
12. Contract Service Agreement ID (Current Field Nos. 20 and 49) | 60
13. Contract Execution Date (Current Field No. 21) and Contract Effective Date (Proposed New Field) | 61
14. Commencement Date of Contract Terms (Current Field No. 22) | 63
15. Contract Termination Date (Current Field No. 23) | 66
16. Class Name (Current Field No. 26) | 67
17. Term Name (Current Field No. 27) | 68
18. Increment Peaking Name (Current Field No. 29) | 69
19. Product Type Name (Current Field No. 30) | 71
20. Product Name (Current Field Nos. 31 and 63, and Appendix A) | 77
21. Direct Assignment Facilities Charge | 78
22. Emergency Energy | 79
23. Grandfathered Bundled | 80
24. Network | 81
25. Other | 82
26. Proposed New Product Names: Ramping, Energy Imbalance Market (EIM), Renewable Energy Credit (REC), and Bundled | 83
27. Ramping | 84
28. Energy Imbalance Market | 85
29. Renewable Energy Credit (REC) | 86
30. Bundled | 87
31. Product Name Description (Proposed New Field) | 88
32. Booked Out Power | 89
33. Rate Description (Current Field No. 37) | 91
34. Rate Units (Current Field Nos. 38, 66 and Appendix F) | 94
35. Point of Receipt Balancing Authority (PORBA) (Current Field No. 39) | 95
36. Point of Receipt Specific Location (PORSL) (Current Field No. 40) | 98
37. Point of Delivery Balancing Authority (PODBA) (Current Field No. 41) | 100
38. Point of Delivery Specific Location (PODSL) (Current Field No. 42) | 103
39. Begin Date (Current Field No. 43) | 104
40. End Date (Current Field No. 44) | 105
41. Transaction Unique Identifier (Current Field No. 50) | 106
42. Transaction Begin Date (Current Field No. 51) | 107
43. Transaction End Date (Current Field No. 52) | 108
44. Trade Date (Current Field No. 53) | 109
45. Exchange/Brokerage Service (Current Field No. 54) | 110
46. Type of Rate (Current Field No. 55) | 111
47. Time Zone (Current Field No. 56) | 112
48. Point of Delivery Balancing Authority (PODBA) (Current Field No. 57) | 113
49. Point of Delivery Specific Location (PODSL) (Current Field No. 58) | 114
50. Class Name (Current Field No. 59) | 115
51. Term Name (Current Field No. 60) | 116
52. Transaction Quantity, Transaction Price (Current Field Nos. 64-65) | 117
53. Standardized Quantity (Current Field No. 67) | 118
54. Standardized Price (Current Field No. 68) | 121
V. Proposed Continued Collection of Current Data Fields | 124
VI. Fields Dependent on Future System Design | 125
VII. Information Collection Statement | 126
VIII. Environmental Analysis | 136
IX. Regulatory Flexibility Act | 137
X. Comment Procedures | 145
XI. Document Availability | 148

I. Background

1. Under the Federal Power Act (FPA), the Commission regulates the transmission of electric energy in interstate commerce and the sale of electric energy at wholesale in interstate commerce. FPA section 205(c) allows the Commission to prescribe rules and regulations under which public utilities shall file with the Commission schedules showing their rates, terms and conditions of jurisdictional service.¹ The Commission has adopted the Electric Quarterly Report (EQR) as the reporting mechanism for public utilities to fulfill their responsibility under FPA section 205(c) to have information relating to their rates, terms and conditions of service available for public inspection in a convenient form and place. The Commission established the EQR in 2002 with the issuance of Order No. 2001.² In Order No. 2001, the Commission required public utility Sellers ³ to electronically file EQRs summarizing the contractual rates, terms and conditions in their agreements under 18 CFR part 35 for all jurisdictional services, including market-based rate (MBR) power sales, cost-based rate power sales, and transmission service (Contract Data), and transaction information for short-term and long-term MBR power sales and cost-based rate power sales (Transaction Data). The EQR is an integral part of the Commission's regulatory oversight, including oversight of MBR sales.⁴ The Commission requires Sellers with MBR authorization to file EQRs as a condition for retaining that authorization.⁵

¹ Section 205(c) of the FPA, 16 U.S.C. 824d(c), provides:

Under such rules and regulations as the Commission may prescribe, every public utility shall file with the Commission, within such time and in such form as the Commission may designate, and shall keep open in convenient form and place for public inspection schedules showing all rates and charges for any transmission or sale subject to the jurisdiction of the Commission, and the classifications, practices, and regulations affecting such rates and charges, together with all contracts which in any manner affect or relate to such rates, charges, classifications, and services.

² Revised Pub. Util. Filing Requirements, Order No. 2001, 67 FR 31044 (May 8, 2002), 99 FERC ¶ 61,107, reh'g denied, Order No. 2001-A, 100 FERC ¶ 61,074, reh'g denied, Order No. 2001-B, 100 FERC ¶ 61,342, order directing filing, Order No. 2001-C, 67 FR 79077 (Dec. 27, 2002), 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 1, 2008), 121 FERC ¶ 61,289 (2007), order revising filing requirements, Order No. 2001-I, 73 FR 65526 (Nov. 4, 2008), 125 FERC ¶ 61,103 (2008).

³ For purposes of this NOPR, “Seller” refers to a public utility that is authorized to make sales as indicated in the company's Commission-approved tariff(s) and required to file the EQR under FPA section 205 or a non-public utility that is required to file the EQR pursuant to FPA section 220. A “Seller Contact” refers to the authorized representative who may be contacted about the accuracy of the EQR data for the Seller. An “Agent” is an individual designated by the Seller to file the EQR on its behalf.

⁴ See Mkt.-Based Rates for Wholesale Sales of Elec. Energy, Capacity & Ancillary Servs. by Pub. Utils., Order No. 697, 72 FR 39904 (Jul. 20, 2007), 119 FERC ¶ 61,295, at P 952 (2007) (pointing to EQR filing requirements, among other things, as part of the Commission establishing regulatory oversight over market-based rates). The Ninth Circuit Court of Appeals upheld the Commission's MBR program based on a finding that it relies on a “system [that] consists of a finding that the applicant lacks market power (or has taken steps to mitigate market power), coupled with strict reporting requirements to ensure that the rate is `just and reasonable' and that markets are not subject to manipulation.” See California ex rel. Lockyer v. FERC, 383 F.3d 1006, 1013 (9th Cir. 2004); see also Mont. Consumer Counsel v. FERC, 659 F.3d 910, 918 (9th Cir. 2011).

⁵ See Refinements to Policies and Procedures for Mkt.-Based Rates for Wholesale Sales of Elec. Energy, Capacity and Ancillary Servs. By Pub. Utils., Order No. 816, 80 FR 67056 (Oct. 30, 2015), 153 FERC ¶ 61,065 (2015), order on reh'g, Order No. 816-A, 81 FR 33375 (May 26, 2016), 155 FERC ¶ 61,188 (2016); Mkt.-Based Rates for Wholesale Sales of Elec. Energy, Capacity and Ancillary Servs. By Pub. Utils., Order No. 697, 72 FR 39904 (Jul. 20, 2007), 119 FERC ¶ 61,295, at P 3 (2007), clarified, 121 FERC ¶ 61,260 (2007), order on reh'g, Order No. 697-A, 73 FR 25832 (May 7, 2008), 123 FERC ¶ 61,055 (2008), clarified, 124 FERC ¶ 61,055, order on reh'g, Order No. 697-B, 73 FR 79610 (Dec, 30, 2008), 125 FERC ¶ 61,326 (2008), order on reh'g, Order No. 697-C, 74 FR 30924 (June 29, 2009), 127 FERC ¶ 61,284 (2009), order on reh'g, Order No. 697-D, 75 FR 14342 (Mar. 25, 2010), 130 FERC ¶ 61,206 (2010), aff'd sub nom. Mont. Consumer Counsel v. FERC, 659 F.3d 910 (9th Cir. 2011).

2. In 2012, in Order No. 768, the Commission revised the EQR filing requirements and extended the requirement to file EQRs to non-public utilities above a de minimis market presence threshold, pursuant to the Commission's authority to facilitate price transparency under FPA section 220.⁶ In Order No. 770, the Commission revised the process for filing EQRs and transitioned to an approach whereby EQRs are submitted directly through its website instead of using software provided by the Commission.⁷ In 2019, the Commission modernized its filing requirements for certain FERC forms and selected eXtensible Business Reporting Language (XBRL) as the mechanism by which companies would file these forms.⁸

⁶ Elec. Mkt. Transparency Provisions of Section 220 of the Fed. Power Act, Order No. 768, 77 FR 61896 (Oct. 11, 2012), 140 FERC ¶ 61,232 (2012), order on reh'g, Order No. 768-A, 143 FERC ¶ 61,054 (2013), order on reh'g, Order No. 768-B, 150 FERC ¶ 61,075 (2015). As defined in Order No. 768, “non-public utilities” are market participants that are not public utilities under section 201(f) of the FPA. See id. P 1 n.3. This NOPR also refers to non-public utilities as Sellers. See supra n.3.

⁷ Revisions to Elec. Q. Rep. Filing Process, Order No. 770, 77 FR 71288 (Nov. 30, 2012), 141 FERC ¶ 61,120 (2012).

⁸ Revisions to the Filing Process for Comm'n Forms, Order No. 859, 84 FR 30620 (June 27, 2019), 167 FERC ¶ 61,241 (2019).

3. Starting in 2020, Commission staff reassessed the current EQR system design and filing requirements to identify potential improvements. As part of the reassessment effort, Commission staff discussed the possible transition of the EQR system to a system that applies the XBRL comma-separated-values (XBRL-CSV) standard to the current data collection methods at the EQR Users Group ⁹ meeting held on September 23, 2020 (September 2020 EQR Users Group). In addition, in 2021, Commission staff held three technical conferences with EQR filers and data users, in Docket No. AD21-8-000, to discuss other potential changes to the current EQR reporting requirements.¹⁰ Based on comments made by participants during the September 2020 EQR Users Group meeting and the 2021 technical conferences, as well as the Commission's experience with the EQR data collection since its inception, the Commission proposes in this NOPR to update and modernize the EQR data collection by revising the current EQR system design and filing requirements, as discussed below.

⁹ The Commission periodically holds EQR Users Group meetings, which provide a forum for dialogue between Commission staff and EQR users to discuss potential improvements to the EQR program and the EQR filing process.

¹⁰ These technical conferences were held on February 24, 2021, May 19, 2021, and October 14, 2021.

II. Summary

4. The Commission proposes to adopt a new system design for EQR reporting based on the XBRL-CSV standard. The Commission also proposes to revise existing EQR reporting requirements and associated fields, as summarized in the Proposed EQR Data Dictionary and the Modified Data Fields Summary.¹¹ Specifically, the Commission proposes to:

¹¹ The “Proposed EQR Data Dictionary” and the “Modified Data Fields Summary” will be available in Docket No. RM23-9-000 in eLibrary and on the Commission's EQR website. Electric Quarterly Reports, Fed. Energy Regulatory Comm'n, https://www.ferc.gov/power-sales-and-markets/electric-quarterly-reports-eqr (last visited October 5, 2023). The “Proposed EQR Data Dictionary” describes the implementation of the collection of data consistent with the proposed reporting requirements described in this NOPR, including specific EQR data field names and their associated characteristics. The “Modified Data Fields Summary” serves as a reference guide, which summarizes the proposed modifications to the data fields discussed in this NOPR and compares them to the current requirements. The “Current EQR Data Dictionary” refers to the EQR Data Dictionary, Version 3.5, issued November 23, 2020, which is available at: https://www.ferc.gov/sites/default/files/2020-11/Data_Dictionary_V3_5_Clean.pdf.

a. Implement a new collection method for EQR reporting based on the XBRL-CSV standard.

b. Amend its regulations to require Regional Transmission Organizations (RTO) and Independent System Operators (ISO) to produce reports containing market participant transaction data in XBRL-CSV format that adhere to the FERC EQR taxonomies, which Sellers can use to prepare their EQR submissions.

c. Amend its regulations to extend the quarterly filing window to four months after the close of the quarter.

d. Provide the option for Sellers to file data on a rolling basis before the close of the quarter.

e. Revise the EQR refiling policy to require refilings when there are material corrections or material omissions to previously filed EQRs for either the prior 20 quarters (i.e., five years) or as far back as the error(s) occurred, depending on which timeframe is shorter.

f. Eliminate the requirement for Sellers to report transmission capacity reassignment information in the EQR.

g. Eliminate the requirement for Sellers to identify the index price publisher(s) to which they report transactions in the EQR.

h. Eliminate the requirement for Sellers to identify which exchange or broker was used to consummate transactions.

i. Improve data quality and transparency by proposing new data fields and clarify the definitions and requirements of certain data fields, including proposing to require Qualifying Facilities (QF) to identify the sales that they make pursuant to the Public Utility Regulatory Policies Act of 1978 (PURPA) that are reportable to the EQR.

j. Streamline the EQR filing process by reducing the amount of Identification Data ¹² that Sellers must submit each quarter by eliminating certain data when they submit their EQRs.

¹² “Identification Data” refers to the information collected in Current EQR Data Dictionary Field Nos. 1-14. The Current EQR Data Dictionary contains identification data necessary to identify the entity required to file the EQR and the individuals or entities completing the EQR filing (Current Field Nos. 1-12, 16, 46, 71 and 72).

III. Discussion

A. XBRL-CSV Standard

1. Adoption of New EQR System Based on XBRL-CSV Standard

5. The Commission proposes to adopt a new EQR submission system based on the XBRL-CSV standard. XBRL is an international standard that enables the reporting of comprehensive, consistent, interoperable data that allows industry and other data users to automate submission, extraction, and analysis.¹³ XBRL-CSV applies the XBRL standard to the CSV format, the format favored by most Sellers. The Commission believes that adopting the XBRL-CSV standard would preserve the efficiency and simplicity of CSV, while adding the flexibility associated with the XBRL standard. Based on the Commission's experience with XBRL as the standard for filing certain forms, the Commission believes that transitioning the EQR system to the XBRL-CSV standard will make information easier for Sellers to submit and for data users to retrieve, while also decreasing the costs, over time, of preparing the necessary data for submission and complying with future changes to the Commission's filing requirements.

¹³ A number of Federal agencies require the XBRL standard for filing forms, including the U.S. Securities and Exchange Commission, the Department of Energy, and the Federal Financial Institutions Examination Council.

6. One benefit of the proposed XBRL-CSV system is that it would allow Sellers to continue to prepare and review their data in Excel spreadsheet format and then submit their data in CSV format. As noted by participants during the September 2020 EQR Users Group Meeting, many filers use Excel to prepare their EQR data and then convert their file into CSV format prior to submission. However, spreadsheets created in Excel are constrained by a maximum limit of about one million rows of data, a data limitation that applies to Excel, but not to CSV formatted data. This data limit presents a challenge for Sellers with over one million rows of transaction data, which is often the case for large Sellers transacting in RTO/ISO markets. As a result, Sellers whose transaction data exceeds the limits of Excel must first break down their data into multiple, smaller Excel files, ensure that these smaller files are complete and accurate, and then combine those files into one large CSV formatted file prior to submission. By contrast, the proposed new system would allow Sellers to use Excel to prepare multiple, smaller transaction files, which filers could then save as CSV and submit multiple transaction files without needing to combine them into one large transaction file.

7. In addition, the existing EQR system enables Sellers to submit EQRs via three different methods: XML, CSV, and manual data entry through a webform. Transitioning from these three separate submission methods to a single XBRL-CSV method will eliminate the need for the Commission to maintain multiple submission methods. Moreover, the technical capabilities of these three submission methods differ, and the enhancements to the EQR system envisioned in this proceeding cannot be applied to each format.

8. Another benefit of the proposed XBRL-CSV system is that it would save Sellers time in preparing their filings by allowing them to check their EQR submission for most errors in real-time by using the publicly available FERC EQR taxonomies and related documents without first submitting files to the Commission.¹⁴ This would save Sellers time by enabling them to submit files with fewer errors. Under the current system, Sellers often submit files to the Commission multiple times to resolve all errors. Furthermore, the test submission feature and detailed list of errors for both test and non-test submissions available in the current system would continue to be available in the proposed new system.

¹⁴ Taxonomies are files containing relevant business terminology, their meanings, their data types, relationships among terms, and the rules or formulas they must follow. Taxonomies are not permanent documents, but rather are code that describes elements that can be used in other programs and software. See Revisions to the Filing Process for Comm'n Forms, Notice of Proposed Rulemaking, 84 FR 1412 (Feb. 4, 2019), 166 FERC ¶ 61,027 (2019).

9. An additional benefit of the proposed XBRL-CSV standard is that, unlike the current database design, the Commission expects the XBRL-CSV standard to allow Sellers to append data to their previously filed EQR data. Appending data involves adding new data to an already submitted and accepted EQR filing, such as adding new rows of data without changing existing rows of data.¹⁵ The proposed append functionality would lead to increased flexibility for Sellers by allowing them to submit new data on a rolling basis throughout the filing window, if they choose to do so. The proposed append functionality aligns with the proposed changes to the EQR filing timeline set forth in Section III.C of this NOPR and the proposal to enable filers to submit EQRs on a rolling basis.

¹⁵ Appending data differs from updating data because it does not change previously filed rows of data.

2. FERC Templates Based on XBRL-CSV Standard

10. We expect that some Sellers will choose to implement the proposed XBRL-CSV filing standard by developing their own submission system. As an alternative to Sellers developing their own XBRL-CSV submission system, we propose to provide pre-formatted templates for the preparation of EQR submission files (FERC Templates) that would conform with the formatting requirements of the proposed XBRL-CSV system.¹⁶ The proposed FERC Templates may not offer the complete set of filing options that could be developed in an XBRL-CSV submission system created by a Seller or vendor. However, we believe that providing FERC Templates would help reduce the reporting burden for some Sellers, particularly for those reporting transactions occurring outside of RTO/ISO markets. At a minimum, the proposed FERC Templates would preserve the framework of the current CSV-based filing method, which some Sellers use to prepare their EQR submissions.

¹⁶ The proposal to make pre-formatted templates available to Sellers as an option for preparing their EQR submissions is based on our current understanding of how the EQR XBRL-CSV system and taxonomies could be designed. However, the Commission may adopt another solution to assist filers in preparing their EQR submissions based on comments in this proceeding and/or the outcome of the XBRL-CSV system design phase.

11. With respect to Sellers reporting transactions within the RTO/ISO markets, we anticipate that the proposed transaction data reports to be prepared by RTOs/ISOs for use by their market participants, as discussed below, would help reduce the burden for Sellers reporting RTO/ISO transactions in the EQR. If the Commission adopts the use of proposed FERC Templates, then the Commission proposes that further technical information on the requirements of the templates would be available during the system design phase and would be made available to interested parties during future technical conference(s) established in this proceeding. Additionally, for those Sellers that only report Identification Data or Identification and Contract Data in the EQR with no changes from the previous quarter, we propose an option that would only require them to confirm that no changes occurred to their EQR from the previous quarter. This proposed option would simplify the EQR filing process for those Sellers that do not report Transaction Data.

3. Process for Developing XBRL-CSV Based EQR System

12. If the XBRL-CSV standard for the EQR system is adopted, the Commission proposes to release draft FERC EQR taxonomies, and related documents, following the issuance of a final rule. Under this proposal, interested parties, including industry members, vendors, and the public would be able to review and propose revisions to the draft taxonomies and related documents, which Commission staff would review prior to convening a staff-led technical conference(s). After the technical conference(s), the Commission anticipates it will issue an order adopting the FERC EQR taxonomies and other related documents, and establishing an implementation schedule.

13. The Commission also proposes that, after the XBRL-CSV system launches, the Commission will migrate previously filed EQR data from the third quarter of 2013 ¹⁷ through the quarter preceding the launch of the new XBRL-CSV system into the new system. Although the historical data would be migrated, the public would still have access to historical data in the format in which it was originally submitted. If the Commission implements the proposed new system, the Commission proposes to discontinue the three existing EQR submission methods. As a result, if Sellers need to refile data that was previously filed using one of the current methods, such refilings would need to be made in XBRL-CSV. This migration of historical data into the new XBRL-CSV format would assist Sellers if they need to make a refiling by allowing them to download the data they previously submitted in the old system in an XBRL-CSV format and make changes to it as needed, rather than rekeying the entire submission.

¹⁷ The current process for filing EQRs, as set forth in Order No. 770, applies to filings beginning in the third quarter of 2013. See Order No. 770, 141 FERC ¶ 61,120 at P 1.

4. Process for Making Future Changes

14. The Commission proposes that notice of future minor or non-material changes to the Proposed EQR Data Dictionary, FERC EQR taxonomies and related documents will be posted on the Commission's website. This proposal is consistent with § 35.10b of the Commission's regulations, which requires EQRs to “be prepared in conformance with the Commission's guidance on the FERC website,” ¹⁸ and the process set forth for updating the Current EQR Data Dictionary.¹⁹ Any significant future changes to the EQR Data Dictionary, FERC EQR taxonomies, related code or associated documentation would be proposed in a Commission order or rulemaking, which would provide an opportunity for comment.²⁰

¹⁸ 18 CFR 35.10b.

¹⁹ See Filing Requirements for Elec. Util. Serv. Agreements, 155 FERC ¶ 61,280, at P 5, order on reh'g, 157 FERC ¶ 61,180, at PP 40-43 (2016). The same process is used for updating the MBR Data Dictionary implemented through Order No. 860. See Data Collection for Analytics and Surveillance and Market-Based Rate Purposes, Order No. 860, 168 FERC ¶ 61,039 at P 209 (2019).

²⁰ See Filing Requirements for Elec. Util. Serv. Agreements, 155 FERC ¶ 61,280, at P 5, order on reh'g, 157 FERC ¶ 61,180 at PP 40-43.

B. RTO/ISO Sales Data and Transaction Data Reports

15. The Commission proposes to require all RTOs/ISOs to produce EQR transaction data reports for their market participants based on the settlement data generated by the RTO/ISO. The proposed EQR transaction data reports would reflect Sellers' transactions within the relevant RTO/ISO market in which the RTO/ISO is the counterparty. Under this proposal, the Commission would require RTOs/ISOs to conform the transaction data reports to the EQR filing requirements, including formatting the reports using the FERC EQR taxonomies in the XBRL-CSV standard, and making the data reports available to Sellers. The Commission believes this proposal would help Sellers to prepare and submit their EQR transaction data by reducing the amount of manual data manipulation necessary before submitting transaction data in EQRs.

16. Under this proposal, the Commission would direct its staff to work with RTOs/ISOs to help ensure that RTO/ISO settlement billing elements are appropriately mapped to the standard set of EQR products and definitions.²¹ Subsequently, the Commission may direct its staff to collaborate with the RTOs/ISOs and interested parties via technical conference(s) or in other similar forums to conform the various mapped RTO/ISO market products to the FERC EQR taxonomies that RTOs/ISOs can use to prepare transaction data reports for use by Sellers.

²¹ The discussions about mapping settlement data may necessitate changes to existing EQR products or definitions, such as creating a new “Product Name” to better capture information in the EQR related to a new RTO/ISO market product.

17. The Commission believes that the proposed directive for RTOs/ISOs to produce and make available transaction data reports for Sellers will increase data standardization of RTO/ISO transactions reported in the EQR, particularly for Sellers transacting across multiple markets. The Commission also believes that enabling Sellers to use RTO/ISO transaction data reports that adhere to the FERC EQR taxonomies to prepare their EQRs will promote greater consistency and accuracy in EQR data. More consistent and accurate data would improve the Commission's and the public's ability to conduct analyses across different markets and detect potential exercises of market power and manipulation.

C. Extended Filing Timeline

18. To promote greater data accuracy, while reducing the number of necessary refilings due to resettled prices, the Commission proposes to revise the current quarterly filing window. The Commission proposes to extend the current filing window, which ends one month after the close of the quarter, to end four months after the close of the filing quarter.

19. The proposal in this NOPR to extend the current filing window to four months after the end of the filing quarter will allow filers more time to prepare their initial EQR filings and incorporate a more complete and accurate set of RTO/ISO meter-corrected data into their submissions. For example, some Sellers receive their finalized RTO/ISO settlement data too late in the quarter, or after the end of the quarter, to incorporate into their EQR under the current filing window. These Sellers must, therefore, make multiple EQR filings for each quarter. This proposed change would reduce the number of refilings that such Sellers must undertake.

20. As proposed in this NOPR, EQR submissions would need to adhere to the following schedule:

• First quarter filings would be due July 31, rather than April 30.

• Second quarter filings would be due October 31, rather than July 31.

• Third quarter filings would be due January 31, rather than October 31.

• Fourth quarter filings would be due April 30, rather than January 31.

Furthermore, the Commission proposes to allow Sellers to file data beginning any time during the quarter, or during the four-month filing period after the close of the quarter, instead of requiring Sellers to wait until the filing quarter ends. Allowing submissions to be appended to a previously submitted EQR on a rolling basis would be a new option available to any Seller that desires to file EQRs before the close of the filing window.²² Sellers could still choose to submit the full EQR for the entirety of the quarter by the filing deadlines identified above. If a Seller cannot submit its EQR by the filing deadlines listed above, the Seller must submit an extension request to the Commission before the filing deadline.²³

²² Although EQR data would be available for download after a submission is accepted, data for a particular quarter would not be considered complete until the filing window closes, as filers may continue to append data up until the filing window closes.

²³ See 18 CFR 385.2008, 385.212.

21. As mentioned previously, appending data involves adding new rows of data to an already accepted EQR filing. In contrast, if already submitted and accepted rows of data need to be corrected, the entire file will need to be resubmitted, consistent with the current system requirements.

D. Refiling Policy

22. The Commission's current EQR refiling policy requires that any additions or changes to an EQR filing must be made by the end of the following quarter, when the filer is expected to have the best available new data.²⁴ Thereafter, Sellers need to file material changes through a refiling. In the case of a material change to one or more transactions due to resettlements, the Commission allows Sellers to refile changes to the underlying transaction(s) through the use of a transaction labeled “Billing Adjustment.” ²⁵ The Commission proposes to revise its current policy to require EQR refilings only if the Seller determines that there are material corrections or material omissions from its previously filed EQR(s).

²⁴ See Order No. 2001-E, 105 FERC ¶ 61,352 at PP 9-10.

²⁵ See id.; Order No. 2001-G, 120 FERC ¶ 61,270 at PP 33-34; see also Order No. 768, 140 FERC ¶ 61,232 at P 84. As discussed below, the Commission proposes in this NOPR to eliminate the option of “Billing Adjustment” under Class Name.

23. The current twelve-quarter timeline for refilings stems from Commission staff's analysis of the Commission's rules conducted pursuant to Executive Order 13579.²⁶ As part of this effort, Commission staff analyzed EQR reporting requirements and identified as inefficient the requirement for companies to correct all previously filed EQRs if there was an inaccuracy in one or more previously filed EQRs. The Plan stated that correcting errors on all affected prior EQRs was not particularly useful and imposed a growing burden on filers, and therefore, Commission staff directed filers to correct the most recent twelve quarters (three years of data), if there was an inaccuracy in one or more of a company's previously filed EQRs, with a note placed in the EQR stating that other EQR filings may also contain the error.²⁷

²⁶ On July 11, 2011, the President issued Executive Order 13579, requesting that independent regulatory agencies issue plans for periodic retrospective analysis of their regulations to identify regulations that may need to be modified, streamlined, expanded, or repealed to achieve the agency's regulatory objective. The Commission issued its plan on November 8, 2011. See Plan for Retrospective Analysis of Existing Rules, Docket No. AD12-6-000 (Nov. 8, 2011) (Plan).

²⁷ See Plan at 4; see also 2012 Biennial Staff Memo Concerning Retrospective Analysis of Existing Rules, Docket No. AD12-6-000, at 8 (Oct. 18, 2012); Implementation Guidance of Executive Order 13579—Entering Notes to Corrected EQR Filings, https://www.ferc.gov/sites/default/files/2020-05/implement-guide.pdf.

24. Based on the Commission's review of the EQR data, the Commission proposes to revise the existing twelve-quarter refiling policy. The Commission proposes to require refilings when there are material corrections or material omissions to previously filed EQRs for either the prior 20 quarters (five years of data) or as far back as the error(s) occurred, depending on which timeframe is shorter, beginning from the time a Seller identifies a material data error or material data omission. The proposed 20-quarter refiling timeline would be consistent with the five-year record retention requirement for MBR sellers under § 35.41(d) of the Commission's regulations.²⁸ In conjunction with the record retention requirement, extending the refiling requirement up to 20 quarters will offer more complete data to conduct more robust analyses than requiring only up to 12 quarters of data.

²⁸ 18 CFR 35.41(d).

25. The Commission also proposes to apply the 20-quarter refiling policy to unauthorized sales where, for example, a Seller makes wholesale sales without prior Commission authorization under FPA section 205 and then must file or refile EQRs to report those sales. The omission of information in the EQR related to any sales without prior Commission authorization would be considered material and would need to be reported in the EQR for either the prior 20 quarters (i.e., five years), or as far back as the unauthorized sales occurred, depending on which timeframe is shorter.²⁹

²⁹ The EQR refiling policy with respect to reporting unauthorized sales would not affect the Commission's ability to order refunds for such sales, which may extend beyond 20 quarters.

26. Furthermore, the Commission proposes a new “Notes” data field in the Proposed EQR Data Dictionary, with a definition of: “For any late EQR filing submitted after the close of the filing window, the Seller must provide the date an extension request was filed with the Commission or the reason(s) for the tardy submission. For any EQR refiling made after the close of the filing window, the Seller must provide the reason(s) for the refiling.” The proposed “Notes” field is required regardless of how the refiling is submitted, whether through an append feature or through the replacement of any previous submission(s) for the quarter.

27. For refilings where a Seller makes corrections to fix material errors or material omissions in previously submitted EQRs and those errors or omissions extend beyond 20 quarters from the time the error or omission was discovered, the Seller must include, for every quarter and year for which filings are corrected, the following information: (1) the date the errors or omissions were discovered; (2) a description of the corrections; (3) the quarter(s) and year(s) in which the corrections were made; and (4) the quarter(s) and year(s) that may contain data that was not corrected.

28. The purpose of these proposed modifications is to make information available to the Commission and the public about why a Seller has filed its EQR late or why it has refiled its EQR after the filing window closed, and to strengthen the current requirement for Sellers to submit EQRs in a timely manner. The Commission believes that, given the proposed extended filing timeline, there should be significantly fewer tardy EQR submissions.

IV. Modification of Reporting Requirements

A. Elimination of Certain Data Fields and Associated Characteristics

29. The Commission proposes to eliminate the “BA-Billing Adjustment” reporting option under “Class Name” (Current Field No. 59), as discussed below. In addition, the Commission proposes to eliminate the requirement for transmission providers to report transmission capacity reassignment information in the EQR and the capacity reassignment-related data collected under “Product Type Name” (Current Field No. 30), as discussed in Section IV.A.2.

30. The Commission further proposes to cease collecting data related to whether Sellers report their transactions to index price publisher(s) and, if so, which index price publisher(s) and, if applicable, which types of transactions are reported. We propose to eliminate the data fields associated with collecting this data, as discussed below, including: “Transactions Reported to Index Price Publishers” (Current Field No. 13), “Filer Unique Identifier” (Current Field No. 71), “Seller Company Name” (Current Field No. 72), “Index Price Publisher(s) to Which Sales Transactions Have Been Reported” (Current Field No. 73), and “Transactions Reported” (Current Field No. 74), as explained further in Section IV.A.3 of this NOPR. Furthermore, the Commission proposes to cease collecting data related to “Exchange/Brokerage Service” (Current Field No. 54).

31. The Commission also proposes that the data associated with the following data fields would no longer be reported in the EQR, because it is available in other Commission systems: Agent Identification Data (Current Field Nos. 2-12), and Seller Identification Data (“Contact Title” (Current Field No. 5), “Contact Address” (Current Field No. 6), “Contact City” (Current Field No. 7), “Contact State” (Current Field No. 8), “Contact Zip” (Current Field No. 9), and “Contact Country Name” (Current Field No. 10). The proposal to eliminate these data fields is discussed in Section IV.B. Finally, the Commission proposes to eliminate the data field “Actual Termination Date” (Current Field No. 24), as discussed in Section IV.B.

1. BA-Billing Adjustments

32. With respect to refilings due to billing adjustments, the EQR currently offers Sellers a “BA-Billing Adjustment” option under the “Class Name” data field to reflect material billing adjustments to previously filed EQRs instead of submitting a full EQR refiling.³⁰ The Commission proposes to eliminate the “BA-Billing Adjustment” option (Current Field No. 59). In Order No. 2001-G, the Commission explained that the “Billing Adjustment” is an option allowing filers to reflect material price changes long after the settled prices were considered final, but should not be used to correct an inaccurate filing.³¹ However, the use of the “BA-Billing Adjustment” option under the “Class Name” data field reflects aggregated transaction data. This aggregated data does not enable data users to identify the individual transactions affected by the billing adjustment and, therefore, provides little useful information. In addition, the proposed extension to the filing timeline, discussed above, should reduce the need for Sellers to refile EQRs to reflect material price changes due to resettlements. For these reasons, we propose to delete the option “BA-Billing Adjustment” from “Class Name” (Current Field No. 59) and require Sellers to reflect material billing adjustments through a refiling.

³⁰ See Order No. 2001-E, 105 FERC ¶ 61,352 at PP 9-10.

³¹ Order No. 2001-G, 120 FERC ¶ 61,270 at P 34.

2. Transmission Capacity Reassignment Data

33. The Commission proposes to eliminate the Order No. 890 ³² requirement that transmission providers report transmission capacity reassignment information in the EQR. In addition, the Commission seeks comment on whether the transmission capacity reassignment data reported in the EQR is helpful to the public and, if so, whether there may be a better way for the public to access such data rather than through the EQR.

³² Preventing Undue Discrimination & Preference in Transmission Serv., Order No. 890, 72 FR 12266 (Mar. 15, 2007),118 FERC ¶ 61,119, order on reh'g, Order No. 890-A, 73 FR 2984 (Jan. 16, 2008), 121 FERC ¶ 61,297 (2007), order on reh'g, Order No. 890-B, 123 FERC ¶ 61,299 (2008), order on reh'g, Order No. 890-C, 126 FERC ¶ 61,228, order on clarification, Order No. 890-D, 129 FERC ¶ 61,126 (2009).

34. In Order No. 888, the Commission permitted reassignments of point-to-point transmission capacity to be made in accordance with the terms and conditions of the transmission provider's Open Access Transmission Tariff (OATT), subject to a cost-based price cap.³³ In Order No. 890, the Commission lifted the price cap and permitted resellers of point-to-point transmission capacity to charge market-based rates.³⁴ The Commission found that market forces, combined with the requirements of the pro forma OATT, as modified in Order No. 890, would limit the ability of resellers to exert market power. To enhance its oversight and monitoring activities, the Commission required all reassignments of transmission capacity to be conducted through or otherwise posted on the transmission provider's Open Access Same-Time Information System (OASIS) on or before the date the reassigned service commenced. In addition, the Commission required the execution of a service agreement by the assignee of transmission capacity prior to the date on which the reassigned service commenced.³⁵

³³ Promoting Wholesale Competition Through Open Access Non-Discriminatory Transmission Servs. by Pub. Utils.; Recovery of Stranded Costs by Pub. Utils. and Transmitting Utils., Order No. 888, 61 FR 21,540 (May 10, 1996), FERC Stats. & Regs. ¶ 31,036 (1996) (cross-referenced at 75 FERC ¶ 61,080), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Grp. v. FERC, 225 F.3d 667 (D.C. Cir. 2000), aff'd sub nom. New York v. FERC, 535 U.S. 1 (2002).

³⁴ Order No. 890, 118 FERC ¶ 61,119 at PP 808-18.

³⁵ Id. PP 815-16.

35. In addition to OASIS posting requirements, the Commission required transmission providers to summarize data related to capacity reassignment agreements and the reassignments under them in the EQR so that the data would be readily accessible to the Commission and the public.³⁶ However, because the EQR could not fully reflect information about transmission capacity reassignments in the Transaction Data, the Commission set forth unique reporting conventions whereby individual reassignments are reported in the Contract Data of the EQR.³⁷

³⁶ Id. P 817; see also Order No. 890-A, 121 FERC ¶ 61,297 at P 410.

³⁷ See Notice Providing Guidance on the Filing of Info. on Transmission Capacity Reassignments in Elec. Q. Rep., 124 FERC ¶ 61,244 (2008).

36. In Order No. 890-A, the Commission granted rehearing to limit the period during which reassignments could occur above the price cap to a two-year study period and directed Commission staff to prepare a report.³⁸ Commission staff released its report in April 2010, finding that the secondary market had grown substantially and resale prices reflected fundamentals rather than the exercise of market power.³⁹ In Order No. 739, the Commission permanently lifted the price cap for sales of reassigned transmission capacity.⁴⁰

³⁸ Order No. 890-A, 121 FERC ¶ 61,297 at P 390.

³⁹ FERC Staff, Staff Finding on Capacity Reassignment (2010), https://www.ferc.gov/sites/default/files/2020-05/04-15-10-capacity-reassignment.pdf.

⁴⁰ Promoting a Competitive Mkt. for Capacity Reassignment, Order No. 739, 75 FR 58293 (Sept. 24, 2010), 132 FERC ¶ 61,238 (2010).

37. We propose to eliminate the requirement to include capacity reassignments in the EQR because the relevant information is available to transmission customers on OASIS, including the quantity, receipt and delivery points, and the begin and end dates and times of the reassignments. Moreover, since the issuance of Order Nos. 890 and 739, the Commission has gained access to other transmission-related data, which Commission staff can use to monitor the competitiveness of transmission markets. For example, in 2013, the Commission gained non-public access through Open Access Technology International (OATI) ⁴¹ to the electronic tags used to schedule transmission of electric power interchange transactions in the wholesale markets, pursuant to Order No. 771.⁴² Additionally, in 2019, the Commission received non-public access to transmission reservation data through a contract with OATI.

⁴¹ OATI is a company that specializes in offering software solutions to the energy industry in North America.

⁴² Availability of E-Tag Info. to Comm'n Staff, Order No. 771, 141 FERC ¶ 61,235 (2012).

38. The Commission believes its access to transmission-related data from sources other than the EQR, including OASIS and OATI, provides sufficient information to monitor the secondary transmission market for the potential exercise of market power. Accordingly, the Commission proposes to eliminate the requirement for transmission providers to report transmission capacity reassignment data in the EQR and the capacity reassignment-related data collected under “Product Type Name” (Current Field No. 30) in the Current EQR Data Dictionary. However, we recognize that OASIS data, while available to transmission customers, may not be available to the public. We therefore seek comment on whether transmission capacity reassignment data is helpful to the public and, if so, whether there may be a better way for the public to access such data rather than through the EQR.

3. Reporting of Index Price Publisher Information

39. The Commission proposes to eliminate the requirement for Sellers to identify in the EQR the index price publisher(s) to which they report transactions.⁴³ Specifically, a Seller must indicate in the Identification Data of the EQR whether it has reported its sales transactions to an index price publisher by selecting “Yes” or “No” in Current Field No. 13. If a Seller selects “Yes,” then it must identify the specific index price publisher(s) and, if applicable, the type(s) of transactions it reported in Current Field Nos. 73 and 74 in the Index Reporting Data of the EQR.⁴⁴ The Commission determined that this information would provide the Commission and the public with greater transparency into market forces affecting those index prices and the level of companies' sales used to calculate index prices.⁴⁵ The Commission stated that this information would help further its understanding of how index prices are formed and improve its ability to monitor price formation in wholesale markets and potential exercises of market power and manipulation.⁴⁶

⁴³ 18 CFR 35.41(c); Order No. 768, 140 FERC ¶ 61,232 at PP 128-29.

⁴⁴ To the extent a Seller identifies only the name of a particular index price publisher without specifying the types of transactions reported to that index price publisher, the Commission expects that the Seller is reporting all its trades to that index price publisher. Order No. 768, 140 FERC ¶ 61,232 at P 129.

⁴⁵ Id. P 128.

⁴⁶ Id.

40. In the years following the implementation of the requirement for Sellers to identify index price publisher information in the EQR, Commission staff has found that this information provides limited transparency into the formation of electric index prices because it is not reported on a transactional basis. Moreover, since the issuance of Order No. 768, the Commission has gained greater transparency into electric price indices through its access to transactional data from Intercontinental Exchange Inc. (ICE). Therefore, the Commission proposes to update and streamline the EQR data collection by eliminating this reporting requirement, reflected in Appendix G, and the associated data fields in the Current EQR Data Dictionary (i.e., Current Field Nos. 13 and 71-74), as shown in the Modified Data Fields Summary. We recognize that eliminating this index price publisher information from the EQR would make it unavailable to the public; therefore, we seek comment on whether this information is helpful to the public, and if so, how this data is used.

4. Reporting of Exchange and Broker Information

41. The Commission proposes to eliminate the requirement, set forth in Order No. 768, for Sellers to report in the EQR whether they use an exchange or broker to consummate a transaction.⁴⁷ If Sellers use an exchange, they must select the specific exchange from a Commission-provided list, and if they use a broker, they select the term “BROKER” from the list. The Commission explained in Order No. 768 that exchanges and brokers routinely publish index prices composed of wholesale sale transactions that were consummated on their exchange or through their brokerage services, and those index prices are used by market participants in contracting for sales in the physical electricity market and as a settlement price associated with financial products.⁴⁸ The Commission determined that adding transparency as to how these indices are created would enable the Commission and the public to better understand how these indices arrive at their published prices.⁴⁹

⁴⁷ Id. PP 137-41.

⁴⁸ Id. P 137.

⁴⁹ Id.

42. In the years since the implementation of this reporting requirement, the Commission has gained greater transparency into exchanges through its access to transactional data from ICE. In addition, Commission staff has found that indicating in the EQR whether a broker was used to consummate or effectuate a transaction does not provide much transparency into how indices are created. Therefore, the Commission proposes to update and streamline the EQR data collection by eliminating this requirement and deleting Appendix H and the associated Current Field No. 54 from the Current EQR Data Dictionary. We recognize that eliminating this exchange and broker information from the EQR would make it unavailable to the public; therefore, we seek comment on whether this information is helpful to the public, and if so, how this data is used.

B. Modifications to Identification, Contract, Transaction Data Reporting Requirements, and Index Reporting Data

43. The current EQR system collects information in data fields classified as Identification, Contract, associated Transaction Data, and Index Reporting Data. The following proposals include proposed new data fields and modifications to existing data fields. These proposals are designed to update and streamline the data collection, improve data quality, and increase market transparency. A summary of proposed changes to the EQR reporting requirements is provided in the Modified Data Fields Summary.

1. Company Name (Current Field Nos. 2, 16 and 46)

44. The Commission proposes to modify this field name from “Company Name” to “Seller” to reflect the name of the entity that is making sales.

45. The Commission also proposes to clarify the definition of “Company Name” (Current Field Nos. 2, 16 and 46) for the “Seller” reporting option to: “The name of the public utility that is authorized to make sales as indicated in the company's FERC tariff(s) under section 205 of the Federal Power Act or the name of the non-public utility that is required to file the EQR under section 220 of the Federal Power Act.” The current “Company Name” definition for the “Seller” reporting option (Current Field No. 2) is: “The name of the company that is authorized to make sales as indicated in the company's FERC tariff(s) or that is required to file the EQR under section 220 of the Federal Power Act.” The “Seller Company Name” in Current Field Nos. 16 and 46 is defined as: “The name of the company that is authorized to make sales as indicated in the company's FERC tariff(s) or that is required to file the EQR under section 220 of the Federal Power Act. This name must match the name provided as a Seller's `Company Name' in Field Number 2 of the ID Data (Seller Data).” The proposed change to the definition described above would apply to the Identification, Contract and Transaction Data of the EQR. The need for Sellers to report the Seller name more than once may be modified based on future system design and reporting capabilities. In addition, the Commission proposes to collect information on Seller name changes and associated effective dates in the new EQR system, and make this information available to the public. Furthermore, the Commission proposes to remove the character limit for the Seller for these fields.

46. The Commission also proposes to cease collecting the “Company Name” reporting option for “Agent” (Current Field No. 2), which is currently defined as: “The name of the entity completing the EQR filing. The Agent's Company Name need not be the name of the company under Commission jurisdiction.” Because the legal obligation for complying with the EQR filing requirements rests with the Seller, not the Agent, the Commission proposes to no longer collect the Agent's Company Name in the Identification Data of the EQR.

2. Company Identifier (Current Field No. 3)

47. The Commission proposes to change this data field name from “Company Identifier” to “Seller CID.” ⁵⁰ The current definition of Company Identifier “Seller” (CID) is: “The Company Identifier (CID) obtained through the Commission's Company Registration system.” The current definition for the Agent reporting option is: “The CID or Delegate Identifier (DID) ⁵¹ obtained through the Commission's Company Registration system.” Because the legal obligation for complying with the EQR filing requirements rests with the Seller, not the Agent, the Commission proposes to no longer collect the Agent's CID/DID in the Identification Data of the EQR. The Commission proposes no changes to how information about the Seller CID is collected in this data field. Thus, the proposed value description for the “Seller CID” would continue to be “A 6-digit integer preceded by the letter `C.'”

⁵⁰ A Company Identifier, or CID, is an identification number assigned to a company that is required under the Commission's regulations to submit an electronic filing using a Company Identifier.

⁵¹ A Delegate Identifier, or DID, is an identification number for a third-party company, such as a law firm or electronic vendor, that makes filings on behalf of the company required to make an electronic filing using a Company Identifier.

3. Contact Name (Current Field No. 4)

48. The Commission proposes to modify this data field name from “Contact Name” to “Seller Contact.” The Commission proposes to modify the definition of “Contact Name” (Current Field No. 4) to: “The Seller's authorized representative who may be contacted about the accuracy of the EQR data for the Seller,” from the current definition of: “The name of the contact for the company authorized to make sales as indicated in the company's FERC tariff(s) or that is required to file the EQR under section 220 of the Federal Power Act.” This person would serve as a point of contact for the Seller for questions related to the EQR data. Because the legal obligation for complying with the EQR filing requirements rests with the Seller, not the Agent, the Commission proposes to no longer collect the Agent's name in the Identification Data of the EQR.

49. With respect to the proposed “Seller Contact,” the Commission proposes that the person must be registered as an Account Manager in the Commission's Company Registration system for the specific Seller.⁵² The proposed new requirement for the “Seller Contact” to be registered as an Account Manager in the Company Registration system will ensure that the individual listed in the EQR as the “Seller Contact” has been designated by the Seller to serve in this capacity. All Account Managers registered in the Company Registration system are responsible for maintaining the accuracy of their Company Registration accounts. Even when an Agent files an EQR on a Seller's behalf, the legal obligation for complying with the EQR filing requirements rests with the Seller and any inaccuracies are the Seller's responsibility.⁵³

⁵² An Account Manager is the eRegistered individual to whom the filing company has granted control over its Company Registration account and who is designated to make the company's electronic filings. An Account Manager can designate eRegistered individuals as Agents that make filings on the company's behalf.

⁵³ See Order No. 770, 141 FERC ¶ 61,120 at P 2.

4. Contact Title and Address (Current Field Nos. 5-10)

50. The Commission proposes to cease collecting the following Identification Data: “Contact Title” (Current Field No. 5), “Contact Address” (Current Field No. 6), “Contact City” (Current Field No. 7), “Contact State” (Current Field No. 8), “Contact Zip” (Current Field No. 9), and “Contact Country Name” (Current Field No. 10). The Commission believes that this information is no longer necessary for EQR reporting purposes and instead proposes to continue to collect only the Seller's phone number and email, as discussed below.

5. Contact Phone (Current Field No. 11)

51. The Commission proposes to modify this field name from “Contact Phone” to “Seller Contact Phone.” The Commission proposes to modify the definition of this field to: “The eRegistered phone number of the Seller Contact,” from the current definition: “Phone number of contact identified in Field Number 4.” The purpose of the proposed modification is to remove reference to Field No. 4, and to incorporate the proposed new field name, “Seller Contact,” as discussed above. Also, the proposed definition specifies that the phone number must conform with the phone number in the Commission's eRegistration database for the “Seller Contact.” All individuals registered in the eRegistration system are responsible for the accuracy of their eRegistration accounts. The current definition of this field allows for the reporting of Agent's and Company's contact phone numbers. Because the legal obligation for complying with the EQR filing requirements rests with the Seller, not the Agent, the Commission proposes to no longer collect the Agent's phone number in the Identification Data of the EQR.

6. Contact Email (Current Field No. 12)

52. The Commission proposes to modify the name of this field from “Contact Email” to “Seller Contact Email” and modify the definition to: “The eRegistered email of the Seller Contact.” The current definition is: “Email address of contact identified in Field Number 4.” The purpose of the proposed modification is to remove reference to Field No. 4, and to incorporate the proposed new field name “Seller Contact.” The current definition allows for the reporting of the Agent Contact's Email and the Company Contact's Email. Because the legal obligation for complying with the EQR filing requirements rests with the Seller, not the Agent, the Commission proposes to no longer collect the Agent's email address in the Identification Data of the EQR.

7. Filing Quarter (Current Field No. 14)

53. The Commission proposes to modify the “Filing Quarter” (Current Field No. 14) field to contain a numerical value, one through four, and to modify the definition to: “A one digit reference number to indicate the quarter of the filing. `1' = First Quarter; `2' = Second Quarter; `3' = Third Quarter; and `4' = Fourth Quarter.” The current definition of “Filing Quarter” is: “A six digit reference number used by the EQR system to indicate the quarter and year of the filing. The first 4 numbers represent the year (e.g., 2007). The last 2 numbers represent the last month of the quarter (e.g., 03=1st quarter; 06=2nd quarter, 09=3rd quarter, 12= 4th quarter).” Because the Commission proposes to provide Sellers with the flexibility to submit their filings on a rolling basis and submit data for less than one full quarter during a filing period, the current numerical reference to the quarter may create confusion for Sellers. Instead, under the modified definition, Sellers would refer to the quarter number for which their data is being submitted.

8. Filing Year (Proposed New Field)

54. The Commission proposes to create “Filing Year,” a separate data field for the filing period year, which is included in Current Field No. 14. The proposed definition for this new data field is: “A four-digit reference number to indicate the year of the filing.” The reporting value would be in “YYYY” format.⁵⁴ The current definition for “Filing Quarter” (Current Field No. 14), as discussed above, includes a six-digit reference number in the “YYYYMM” format, where the last two numbers represent the last month of the quarter and the first four numbers represent the year (e.g., 2007). By separating the “Filing Year” from the “Filing Quarter” into separate data fields, the proposal would provide greater clarity for Sellers submitting EQR data on a rolling basis.

⁵⁴ This proposed data format, as well as the other data formats proposed in this NOPR, may change based on the outcome of the XBRL-CSV system design phase.

9. Customer Is RTO/ISO (Proposed New Field) and Customer Company Name (Current Field Nos. 17 and 47)

55. The Commission proposes to add a new data field, “Customer is RTO/ISO,” with proposed values of “Y” or “N.” The proposed definition is: “Sellers should indicate whether the Customer is an RTO/ISO. If the Customer is an RTO/ISO, Sellers should indicate the name in `Customer Company Name,' as identified in the Commission's Company Registration system, and as provided on the Commission's website.” The new field would require Sellers to identify whether the customer is an RTO or ISO and select the name from a list that would be provided by the Commission.

56. The current definition of “Customer Company Name” (Current Field Nos. 17 and 47) is “The name of the purchaser of contract products and services.” The Commission proposes to modify this definition to: “The name of the purchaser of contract products and services. If the purchaser is an RTO/ISO, then use the RTO/ISO name from the list of allowable entries. If the purchaser is not an RTO/ISO and is associated with a CID, then use the spelling of the name reflected in the Commission's Company Registration system. If the purchaser is not an RTO/ISO and is not associated with a CID, then use the spelling of the purchaser's name reflected in the Commission-generated Identifier (GID), if applicable.”

57. Using the Customer Company Name that is associated with the company's CID, or if a CID is not available, with the name associated with the company's GID, will promote consistency in the spelling of Customer Company Names across filers and help reduce instances where a single entity is reported with multiple names. Greater consistency in the Customer Company Names would improve analyses that use EQR data.⁵⁵

⁵⁵ The Commission requires companies to obtain a CID number in order to make certain filings with the Commission. CID listings are available at https://www.ferc.gov/media/ferc-cid-listing. The Commission requires GID numbers to identify any reportable entity that must be referenced in an MBR submission, provided that the reportable entity does not already have a CID or a Legal Entity Identifier. GID listings are available at https://mbrweb.ferc.gov/search/search.

10. Contract Affiliate (Current Field No. 18)

58. The Commission proposes to modify the definition of “Contract Affiliate” to: “The Customer is an affiliate as defined under 18 CFR 35.36(a)(9).” The current Contract Affiliate definition in the EQR is based on the definition of affiliate used in the Standards of Conduct for Transmission Providers under § 358.3 of the Commission's regulations.⁵⁶ However, the Commission believes that the definition of “Contract Affiliate,” as used in the EQR, should conform with the definition of affiliate in § 35.36(a)(9) of the Commission's regulations, which applies to MBR Sellers.⁵⁷

⁵⁶ 18 CFR 358.3.

⁵⁷ The Commission's regulations define an MBR Seller as any person that has authorization to or seeks authorization to engage in sales for resale of electric energy, capacity or ancillary services at market-based rates under section 205 of the Federal Power Act. 18 CFR 35.36(a)(1).

11. FERC Tariff Reference (Current Field Nos. 19 and 48)

59. The Commission proposes to modify the definition of “FERC Tariff Reference” to: “The FERC Tariff Reference cites the document that specifies the terms and conditions under which a Seller is authorized to make transmission sales, power sales or sales of related jurisdictional services at cost-based rates or at market-based rates. The FERC Tariff Reference is not a docket number. If the sales are market-based, the tariff that is specified in the Commission order granting the Seller market-based rate authority must be listed. If the sales are cost-based, the Seller must specify the FERC-approved tariff or rate schedule under which the sales are made. If a non-public utility (NPU) Seller has a FERC-approved reciprocity transmission tariff, then the NPU should enter the tariff title of the reciprocity tariff. Sellers should report the FERC Tariff Reference in a manner consistent with the tariff, rate schedule or service agreement reported in the eTariff system. If an NPU does not have a FERC Tariff Reference, the Seller should enter `NPU.' Qualifying Facilities making sales pursuant to the Public Utility Regulatory Policies Act of 1978 (PURPA) should enter `PURPA' in this field.” The proposed definition differs from the current definition by requiring QFs to identify sales made pursuant to PURPA, thereby helping data users to identify such sales in the EQR. In addition, the proposed XBRL-CSV system would accommodate longer tariff references that exceed the current 60-character limit for this data field.

12. Contract Service Agreement ID (Current Field Nos. 20 and 49)

60. The Commission proposes to modify the “Contract Service Agreement ID” definition to: “A unique identifier assigned by the Seller to each service agreement that can be used by the Seller to provide the agreement to the Commission, if requested. The Contract Service Agreement ID should seldom change throughout the life of the contract.” The current definition of “Contract Service Agreement ID” states that the identifier may be the number assigned by the Commission for service agreements filed and accepted by the Commission or it may be generated as part of an internal identification system. The Seller may continue to choose an identifier that corresponds to the number assigned by the Commission for the service agreements; however, the proposed new definition clarifies that the “Contract Service Agreement ID” is generated by the Seller, not by the Commission.

13. Contract Execution Date (Current Field No. 21) and Contract Effective Date (Proposed New Field)

61. The Commission proposes to modify the “Contract Execution Date” definition to: “The date the contract is signed. If the parties signed on different dates, then report the most recent date signed. If there is no signed contract, then report the date upon which the parties made the legally binding agreement on the price of a transaction.” The current definition of “Contract Execution Date” is “The date the contract was signed. If the parties signed on different dates, use the most recent date signed.” This data field would continue to be required for all contracts. In addition, the Commission proposes to continue requiring filers to begin reporting Contract and Transaction Data in the EQR after service commences under an agreement.⁵⁸

⁵⁸ See Order No. 2001, 99 FERC ¶ 61,107 at P 216 (“the requirement to file contract and transaction data begins with the first Electric Quarterly Report filed after service commences under an agreement, and continues until the Electric Quarterly Report filed after the agreement expires or by order of the Commission.”)

62. The Commission also proposes a new data field, “Contract Effective Date,” with a reporting value in YYYYMMDD format, defined as: “If the contract was filed for Commission acceptance, enter the effective date granted by the Commission. If the contract was filed for Commission acceptance, but the effective date is not yet known, then enter the requested effective date. If the contract was not filed with the Commission for acceptance, then the field may be left blank.” This proposed data field would clarify whether a contract was previously filed at the Commission for acceptance, and if so, the effective date granted by the Commission or requested by the filer, as applicable. Many contracts reported in the EQR have not been previously filed with the Commission because they are conforming or MBR agreements.⁵⁹ This proposal would enable EQR data users to determine which agreements have been filed for prior Commission acceptance and can, therefore, also be accessed through the Commission's eLibrary system.

⁵⁹ Service agreements that conform to the form of service agreement that is part of a public utility's approved tariff and any MBR service agreement pursuant to a tariff are not previously filed with the Commission for acceptance, but they are reported in the EQR. See 18 CFR 35.1(g).

14. Commencement Date of Contract Terms (Current Field No. 22)

63. The Commission proposes to modify the “Commencement Date of Contract Terms” to: “The date the terms of the contract reported in ‘Contract Affiliate,' ‘Contract Termination Date,' `Extension Provision Description,' `Class Name,' `Term Name,' ‘Increment Name,' ‘Increment Peaking Name,' `Product Type,' `Product Name,' `Quantity,' `Units,' `Rate,' `Rate Minimum,' `Rate Maximum,' `Rate Units,' `Point of Receipt Balancing Authority Area,' `Point of Receipt Specific Location,' `Point of Delivery Balancing Authority Area,' `Point of Delivery Specific Location,' `Begin Date,' and `End Date' became effective. If there are one or more amendments to these terms in one quarter, report the effective date of the most recent amendment. If the contract or the most recent reported amendment does not have an effective date, the date when service began pursuant to the contract or most recent reported amendment may be used.”

64. The current definition of “Commencement Date of Contract Terms” is: “The date the terms of the contract reported in fields 18, 23 and 25 through 44 (as defined in the data dictionary) became effective. If those terms became effective on multiple dates (i.e., due to one or more amendments), the date to be reported in this field is the date the most recent amendment became effective. If the contract or the most recent reported amendment does not have an effective date, the date when service began pursuant to the contract or most recent reported amendment may be used. If the terms reported in fields 18, 23 and 25 through 44 have not been amended since January 1, 2009, the initial date the contract became effective (or absent an effective date the initial date when service began) may be used.”

65. The proposed new definition includes several changes to the current definition of “Commencement Date of Contract Terms” to better capture the effective date of changes to significant terms of a contract. “Rate Description” (Current Field No. 37) would no longer be included in the list of data fields specified in the definition because it is a free-form text field; therefore, any change in the number of characters in this field would necessitate modifying the “Commencement Date of Contract Terms.”

15. Contract Termination Date (Current Field No. 23)

66. The Commission proposes to modify the definition for Contract Termination Date as follows: “The termination date specified in the contract. This field may only be left blank if the agreement is an evergreen or master agreement, and the termination date is therefore not specified. If the actual termination date differs from the termination date specified in the contract, then it must be listed in this field.” The “Contract Termination Date” field is currently defined as: “The date that the contract expires.” The modified definition clarifies that the reported termination date may be the date specified in the contract or the date the contract terminates, once the date is known, even if that date differs from the date specified in the contract. If a contract amendment triggers a change in the termination date specified in the contract, then that amended date serves as the new “Contract Termination Date.” Under the proposed new definition, the Commission would require only the most recent contract termination date to be reported. As a result, the Commission proposes to delete the “Actual Termination Date” field (Current Field No. 24), which is currently defined as “The date the contract actually terminates.” The purpose of the proposed new definition is to record whether a contract is still active, and if it will terminate, the date of termination. Accordingly, the “Contract Termination Date” may not be left blank unless Sellers also select the Term Name “Evergreen or Master Agreement,” which is a new reporting option for current Field No. 27, as discussed below.

16. Class Name (Current Field No. 26)

67. The Commission proposes to add a new reporting option “Firm and Non-Firm (“FNF”)” to “Class Name” (Current Field No. 26) in the Contract Data of the EQR. The proposed modification would allow more accurate reporting when energy is sold under a contract on both a firm and non-firm basis, and thereby reduce instances where energy is reported under a contract with the “Class Name” of “N/A.” The proposed definition of “Firm and Non-Firm” is: “For an energy sale, a service or product that is “Firm” (not interruptible for economic reasons) and “Non-Firm” (where delivery or receipt of the energy may be interrupted, without liability on the part of either the buyer or seller).” Because energy sales cannot be accurately classified as both firm and non-firm at a transactional level, the new “Class Name” “Firm and Non-Firm” would not be an available option in the Transaction Data of the EQR.

17. Term Name (Current Field No. 27)

68. The Commission proposes to modify the definition of “Term Name” in the Contract Data to incorporate a new reporting option for “Evergreen or Master Agreement.” The proposed definition would be “The duration of a contract. Contracts with durations of one year or greater are long-term. Contracts with durations less than one year are short-term. Contracts without a specified termination date are evergreen or master agreements.” The current definition of “Term Name” is: “Contracts with durations of one year or greater are long-term. Contracts with shorter durations are short-term,” and current reporting options include: “Long-Term,” “Short-Term,” and “N/A.” The “Evergreen or Master Agreement” reporting option would only be available in the Contract Data under “Term Name.”

18. Increment Peaking Name (Current Field No. 29)

69. The Commission proposes to modify, in the Contract Data of the EQR, the definition of the reporting option “N/A—Not Applicable” in “Increment Peaking Name” (Current Field No. 29). The proposed definition is: “The product described does not have constraints on which hours it may be sold, or the increment peaking name is not specified in the contract.” Currently, the “N/A—Not Applicable” option specifies that it can only be used when the increment peaking name is not specified in the contract. The proposed modification would expand the conditions under which “N/A—Not Applicable” can be reported to include when the product has no constraints on the hours during which it may be sold.

70. The Commission also proposes to modify the definition of “FP—Full Period” in the Contract Data to: “The product described may be sold during those hours designated as on-peak and off-peak, or during a combination of hours designated as on-peak and off-peak at the point of delivery.” The current definition of “FP—Full Period” is: “The product described may be sold during those hours designated as on-peak and off-peak, at the point of delivery.” The proposed modification clarifies that Sellers can report contracts that allow for transactions to span any combination of peak and off-peak hours. The remaining reporting options and definitions under “Increment Peaking Name” (i.e., “Off-Peak,” and “Peak”) would remain unchanged. Additionally, the reporting requirements and options for “Increment Peaking Name” (Current Field No. 62) in the Transaction Data of the EQR would remain unchanged.

19. Product Type Name (Current Field No. 30)

71. The Commission proposes to re-name Current Field No. 30 from “Product Type Name” to “Product Type” to distinguish this data field more easily from the “Product Name” field. Product Type would more accurately capture the reporting options available for this field, including “CB—Cost-Based,” “MB—Market-Based,” “T—Transmission,” and “NPU—Non-Public Utility,” and would better align the reporting options with the content in reportable contracts.

72. The Commission proposes to modify the definition for “CB—Cost-Based” to: “The product is sold under a FERC-approved cost-based rate,” from the current definition: “Energy, capacity or ancillary services sold under a FERC-approved cost-based rate tariff.” For example, reactive power and black start services sold under a cost-based rate schedule would be reported using the “Product Type Name” “CB—Cost-Based.”

73. The Commission proposes to modify the definition for “MB—Market-Based” to: “The product is sold under a FERC-approved market-based rate.” The current definition of “MB—Market-Based” is: “Energy, capacity or ancillary services sold under the seller's FERC-approved market-based rate tariff.”

74. The Commission proposes to modify the definition for the “T—Transmission” reporting option to: “The product is sold under a FERC-approved transmission tariff or rate schedule.” The current definition of “T—Transmission” is: “The product is sold under a FERC-approved transmission tariff.” The proposed new definition would broaden the types of agreements allowed to include any rate schedule under which transmission may be sold.

75. The Commission proposes to add a new “Product Type,” “QF—Qualifying Facility” to be defined as: “The product is sold by a Qualifying Facility under the Public Utility Regulatory Policies Act of 1978 (PURPA).” The proposed addition of this new “Product Type” “QF—Qualifying Facility” would more clearly identify reportable sales made by QFs under PURPA. Currently, QFs can make sales at avoided cost rates under PURPA or at market-based rates under an MBR tariff. To the extent a QF is making sales at avoided cost rates under PURPA, it would use the new reporting option of “QF—Qualifying Facility.” If the QF is making sales under a Commission-approved MBR tariff, it would use the “MB—Market-Based” “Product Type” designation. The definition for “NPU—Non-Public Utility” remains unchanged. Finally, the Commission proposes to remove the reporting options associated with “Capacity Reassignment” data, as discussed in Section IV.A.2 of this NOPR.

76. The Commission proposes to modify the definition of “Other” to “The product cannot be characterized by the other Product Types,” to reflect the new field name “Product Type.”

20. Product Name (Current Field Nos. 31 and 63, and Appendix A)

77. The Commission proposes to modify the following requirements related to “Product Names” associated with Current Field Nos. 31 and 63, and found in Appendix A of the Current EQR Data Dictionary: “Direct Assignment Facilities Charge,” “Emergency Energy,” “Grandfathered Bundled,” “Network,” and “Other.”

21. Direct Assignment Facilities Charge

78. The Commission proposes to modify the definition of “Direct Assignment Facilities Charge” to: “Charges for facilities or portions of facilities that are constructed or used for the sole use/benefit of a particular transmission customer.” This “Product Name” would only be used for reporting in the Contract section of the EQR and would not apply to reporting in the Transaction section. The new Direct Assignment Facilities Charge definition would be modified slightly to conform with the definition of this term in the pro forma Open Access Transmission Tariff (section 1.11, Direct Assignment Facilities).⁶⁰

⁶⁰ See current Pro Forma OATT at https://www.ferc.gov/sites/default/files/2020-05/pro-forma-OATT.pdf.

22. Emergency Energy

79. The Commission proposes to require that transactions associated with Emergency Energy contracts be reported in the Transaction Data of the EQR under the Product Name “Emergency Energy.” “Emergency Energy” transactions would include transactions made under a reserve sharing agreement. Currently, “Emergency Energy” is reported only in the Contract Data of the EQR and is defined as “Contractual provisions to supply energy or capacity to another entity during critical situations.” We propose to align the definition for Emergency Energy in both the Contract and Transaction Data to: “Energy or capacity provided to another entity during critical situations.”

23. Grandfathered Bundled

80. The Commission proposes to modify the definition of “Grandfathered Bundled” in Appendix A accompanying the Current EQR Data Dictionary to: “Services provided for bundled transmission, ancillary services and/or energy under contracts effective prior to Order No. 888's OATTs.” The proposed change would replace “and” with “and/or” in order to clarify that this data field should capture information about grandfathered bundled sales regardless of which services are bundled and sold under the contract.

24. Network

81. The Commission proposes to modify the Product Name “Network” to “Network Integration Transmission Service Agreement,” as shown in the Proposed EQR Data Dictionary, to conform with the generally recognized naming convention for this type of agreement.

25. Other

82. The Commission proposes to modify the definition of Product Name “Other” to “The Product Name cannot be characterized by any other Product Name,” as shown in the Proposed EQR Data Dictionary. This proposal would ensure that this reporting option is used only when the other remaining “Product Name” options do not apply.

26. Proposed New Product Names: Ramping, Energy Imbalance Market (EIM), Renewable Energy Credit (REC), and Bundled

83. The Commission proposes to add new Product Names: “Ramping,” “Energy Imbalance Market (EIM),” “Renewable Energy Credit (REC),” and “Bundled.” These proposed new reporting options for “Product Name” would apply to both the Contract and Transaction Data of the EQR. Furthermore, the Commission proposes to add new Product Names, as necessary, to enable accurate reporting of new market products as they emerge.

27. Ramping

84. The Commission proposes to add “Ramping” as a new reporting option under “Product Name,” with a proposed definition of: “The ability to change the output of real power from a generating unit per some unit of time.” The new reporting option allows the EQR to more accurately capture the ramping-related products offered within RTO/ISO markets. Because Sellers are currently reporting ramping-related products using the Product Name “Other,” we believe that adding “Ramping” as a new “Product Name” would enhance transparency by enabling filers to delineate this product.

28. Energy Imbalance Market

85. The Commission proposes to add a new Product Name “Energy Imbalance Market,” with the following definition: “Product sold in a Commission-approved energy imbalance market for the purpose of balancing real-time supply and demand.” The new reporting option would allow the EQR to capture information related to the Energy Imbalance Market products more accurately.

29. Renewable Energy Credit (REC)

86. The Commission proposes to add a new Product Name, “Renewable Energy Credit (REC),” to the list of allowable entries for Product Names with a proposed definition of: “The sale of renewable energy credits (REC), bundled with another product such as Energy. RECs are created and issued by a state, which certifies that electric energy was generated pursuant to certain requirements and standards. If the REC is priced separately from the Energy price, then Sellers should report `REC' and `Energy' separately in the `Product Name' field. If the `REC' and `Energy' prices are not separated, then Sellers should use the `Bundled' reporting option in the `Product Name' field, and specify `REC' and `Energy' in the `Product Name Description' field.” ⁶¹ Because Sellers are currently reporting bundled REC sales using the Product Name “Other,” adding “Renewable Energy Credit (REC)” as a new “Product Name” would enhance transparency by enabling Sellers to delineate bundled REC sales, i.e., sales where the RECs are sold with their associated energy.

⁶¹ An unbundled REC transaction that is independent of a wholesale electric energy transaction does not fall within the Commission's jurisdiction and, therefore, would not be reportable in the EQR. See WSPP Inc., 139 FERC ¶ 61,061 (2012).

30. Bundled

87. The Commission proposes to add “Bundled” as a new “Product Name” with the proposed definition of: “Services provided for two or more products, including transmission, energy, ancillary services, and/or Renewable Energy Credits. If the bundled components of the sale are priced separately, the components should be reported separately in the Transaction Data of the EQR.” The addition of the Product Name “Bundled” would provide greater transparency by enabling Sellers to specify what products are being bundled. If “Bundled” is selected, then the Product Names must relate to transmission, energy, ancillary services, and/or Renewable Energy Credits, and may not include the reporting option “Other.”

31. Product Name Description (Proposed New Field)

88. The proposed new data field, “Product Name Description,” would be defined as: “A description of the product(s) if selecting `Other' as the `Product Name,' or two or more of the `Bundled' services from among the list of allowable Product Names.” If “Other” is selected in the “Product Name” field, Sellers would be required to describe the product in “Product Name Description.” If “Bundled” is selected, then the Seller would identify the services being provided from the list of allowable Product Names and report the product names in the “Product Name Description” data field. Currently, if “Other” is selected from Appendix A, Sellers are required to describe the product(s) in the “Rate Description” data field. The proposed new data field, “Product Name Description,” provides the Seller a specific field to describe which product(s) is reported as “Other” or “Bundled.”

32. Booked Out Power

89. The Commission proposes to retain the current definition of “Booked Out Power” in the EQR as “Energy or capacity contractually committed bilaterally for delivery but not actually delivered due to some offsetting or countervailing trade (Transaction only).” Participants at the September 2020 EQR Users Group meeting noted that some filers use the term “book outs” to refer not only to transactions where there was a lack of physical delivery due to offsetting or countervailing trades, but also to transactions where the lack of physical delivery results in liquidated damages payments negotiated among the parties.

90. The Commission proposes to clarify that Sellers should continue to report transactions as “Booked Out Power” in the EQR when there is a lack of physical delivery of power resulting from offsetting or countervailing trades between the parties. Such transactions constitute wholesale energy sales between a buyer and seller to account for the difference in the original volume of power to be delivered and the final delivered volume. As such, “Booked Out Power” transactions are useful for conducting price formation analyses. In contrast, there are no offsetting or countervailing trades when a seller fails to deliver power due to, for example, a transmission curtailment. In such cases, there is no wholesale energy sale between a buyer and seller to account for the difference in the original volume and final delivered volume. Rather, the non-delivery results in liquidated damages payments to compensate for the undelivered power. Liquidated damages payments differ from a rate negotiated among parties for a wholesale energy sale that would provide useful price formation information. For this reason, the Commission proposes to clarify that liquidated damages payments should not be reported as “Booked Out Power” and, more generally, that filers should not report liquidated damages payments in the EQR.

33. Rate Description (Current Field No. 37)

91. The Commission proposes to modify the definition of “Rate Description” to: “Text description of rate. If the rate is currently available on eTariff or eLibrary, or successors of these systems, a citation of the FERC Accession Number and the relevant FERC tariff, including page number or section label may be included instead of providing the entire rate algorithm. If the rate is not available on eTariff or eLibrary, or successors of these systems, include the rate algorithm, if rate is calculated in the contract, including bases and methods of calculations, and a detailed citation to the contract.”

92. The current definition of “Rate Description” is: “Text description of rate. If the rate is currently available on the FERC website, a citation of the FERC Accession Number and the relevant FERC tariff including page number or section may be included instead of providing the entire rate algorithm. If the rate is not available on the FERC website, include the rate algorithm, if rate is calculated. If the algorithm would exceed the 300-character field limit, it may be provided in a descriptive summary (including bases and methods of calculations) with a detailed citation of the relevant FERC tariff including page number and section.” The proposed definition reflects updated references to eTariff and eLibrary (and possible future successors to these systems). Additionally, this definition has been updated to include the concept of section labels, which pertains to tariffs that have been submitted through eTariff. Finally, the Commission proposes to remove the character limit to allow for a detailed “Rate Description.”

93. The Commission proposes that, if a Seller reports “0” for “Rate,” “Rate Minimum,” or “Rate Maximum” and then leaves two of these data fields blank, or if a Seller reports “0” for all these rate-related data fields, then the Seller must report a “Rate Description.” The Commission proposes to continue requiring Sellers to report information in at least one of the four rate-related fields, i.e., “Rate” (Current Field No. 34), “Rate Minimum” (Current Field No. 35), “Rate Maximum” (Current Field No. 36), or “Rate Description” (Current Field No. 37). Additionally, if the “Rate,” “Rate Minimum,” and “Rate Maximum” are not specified in the contract, then the Seller should leave these data fields blank and describe the rate in the “Rate Description.” This proposed requirement would clarify the rate components of a contract, particularly in the absence of rate specifications in a contract, and help ensure that rates are reported with sufficient specificity.

34. Rate Units (Current Field Nos. 38, 66 and Appendix F)

94. The Commission proposes to add three new reporting options for “Rate Units”: “mills/kWh” to reflect the units specified in certain contracts; “MW/min” to reflect units for reporting ramping; and “MW/0.1 Hz” as a reporting option for reporting frequency response.

35. Point of Receipt Balancing Authority (PORBA) (Current Field No. 39)

95. The Commission proposes to update the name “Point of Receipt Balancing Authority (PORBA)” to “Point of Receipt Balancing Authority Area (PORBAA).” The Commission also proposes to modify the definition to: “The registered Balancing Authority Area where the jurisdictional transmission or transmission-related product is received, if designated in the contract. The Balancing Authority Area will be identified with the abbreviation used in OASIS applications. If receipt occurs at a trading hub, then report the standardized hub name from the list of allowable names.”

96. The current definition of PORBA is: “The registered Balancing Authority (formerly called NERC Control Area) where service begins for a transmission or transmission-related jurisdictional sale. The `Balancing Authority Area' will be identified with the abbreviation used in OASIS applications. If receipt occurs at a trading hub, the term `Hub' should be used.” ⁶²

⁶² The Commission provides a list of acceptable Balancing Authority Areas (BAA) on the Commission's website. The list is compiled from registered BAAs in OASIS and updated (if needed) quarterly.

97. The Commission's proposed definition clarifies the reporting requirements for the modified PORBAA data field by replacing the reference to “where service begins” with “where [the] product is received.” The proposed modification further reflects that a contract may have multiple transmission-related products sold pursuant to its terms and conditions. Finally, the proposed definition replaces “NERC Control Area” with “Balancing Authority Area” to reflect current NERC nomenclature.

36. Point of Receipt Specific Location (PORSL) (Current Field No. 40)

98. The Commission proposes to modify the definition of “Point of Receipt Specific Location (PORSL)” to: “The specific location at which the jurisdictional transmission or transmission-related product is received if designated in the contract. If more than one point of receipt is listed in the contract, a description of the collection of points may be used. `Multiple' is acceptable if the contract contains more than one Point of Receipt Specific Location.” The current definition of PORSL is: “The specific location at which the product is received if designated in the contract. If receipt occurs at a trading hub, a standardized hub name must be used. If more points of receipt are listed in the contract than can fit into the 50-character space, a description of the collection of points may be used. `Various,' alone, is unacceptable unless the contract itself uses that terminology.” The proposed XBRL-CSV system would allow the elimination of the current 50-character space limitation, which would provide filers more space to list multiple PORSLs, if specified in the contract. We further propose to remove the requirement to report the standardized hub name in this field because this information, if applicable, would already be captured in the modified PORBAA field (Current Field No. 39).

99. Additionally, the Commission proposes to modify the reporting of PORSL to apply only to jurisdictional transmission or transmission-related products, if specified in the contract. In particular, PORSL would only be required if the Product Names are: Interconnection Agreement, Negotiated-Rate Transmission, Network Integration Transmission Service Agreement (currently referred to as Network), Network Operating Agreement, or Point-to-Point Agreement.

37. Point of Delivery Balancing Authority (PODBA) (Current Field No. 41)

100. The Commission proposes to update the data field “Point of Delivery Balancing Authority (PODBA)” to “Point of Delivery Balancing Authority Area (PODBAA)” in the Contract Data.

101. The Commission proposes to modify the definition of PODBA in the Contract Data to: “The registered Balancing Authority Area where a jurisdictional product is delivered and/or service ends for a transmission or transmission-related jurisdictional product. The Balancing Authority will be identified with the abbreviation used in OASIS applications. If delivery occurs at the interconnection of two Balancing Authority Areas, the Balancing Authority Area that the product is entering should be used. If delivery occurs at a trading hub, then report the standardized hub name from the list of allowable names.”

102. The current definition of PODBA in the Contract Data is: “The registered Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub, the term `Hub' should be used.” The Commission proposes to change the word “sale” to “product,” consistent with the focus on reporting information about the sale of discrete products in the EQR. Additionally, the Commission proposes to replace “NERC Control Area” with “Balancing Authority Area” to reflect current NERC nomenclature. The standardized list of allowable hub names will continue to be available on the Commission's website.

38. Point of Delivery Specific Location (PODSL) (Current Field No. 42)

103. Similar to the proposed modification for PORSL, discussed above, the Commission proposes to collect PODSL in the Contract Data (Current Field No. 42) for jurisdictional transmission or transmission-related products, if the contract specifies a PODSL. The Commission therefore proposes to modify the definition of PODSL in the Contract Data to: “The specific location at which the jurisdictional transmission or transmission-related product is delivered if designated in the contract.” The current definition of PODSL in the Contract Data of the EQR is: “The specific location at which the product is delivered if designated in the contract. If receipt occurs at a trading hub, a standardized hub name must be used.”

39. Begin Date (Current Field No. 43)

104. The Commission proposes to modify the definition of “Begin Date” to: “First date for the sale of the product at the rate specified.” The current definition of “Begin Date” includes the hours and minutes for the sale, timing components which do not apply to products listed in the Contract Data. We propose to modify the format of this data field to YYYYMMDD.

40. End Date (Current Field No. 44)

105. The Commission proposes to modify the definition of “End Date” to: “Last date for the sale of the product at the rate specified.” The current definition includes the hours and minutes, timing components which do not apply to products listed in the Contract Data. We propose to modify the format of this data field to YYYYMMDD.

41. Transaction Unique Identifier (Current Field No. 50)

106. The Commission proposes to modify the data field name from “Transaction Unique Identifier” to “Transaction Identifier” and also proposes to change the definition to: “A reference number assigned by the Seller for each transaction or multiple related products in a transaction.” The current definition of “Transaction Unique Identifier” is: “Unique reference number assigned by the Seller for each transaction.” The proposed Transaction Identifier is a filer-selected designation that relates multiple records of data to a single transaction, and may therefore be used multiple times if needed. For example, if a sale includes capacity and energy, the Transaction Identifier would be the same for both records of data. The Transaction Identifier is assigned by the Seller, and can contain information about the type of product being sold. Sellers have the option to report multiple related products in one transaction using the same identifier in order to demonstrate which products/transactions are linked with each other.

42. Transaction Begin Date (Current Field No. 51)

107. The Commission proposes to modify the current definition of “Transaction Begin Date” to “First date and time the product is sold at the specified price” from “First date and time the product is sold during the quarter.” The new definition seeks to clarify that when a change in price occurs for a particular product during the quarter in which it is sold, each price change must be listed as a separate line item in the EQR and the transactions should not be aggregated.

43. Transaction End Date (Current Field No. 52)

108. The Commission proposes to modify the current definition of “Transaction End Date” to “Last date and time the product is sold at the specified price,” from “Last date and time the product is sold during the quarter.” As with the proposed change to the definition of “Transaction Begin Date” (Current Field No. 51), this proposed change would clarify that each price change must be listed as a separate line item in the EQR and transactions should not be aggregated.

44. Trade Date (Current Field No. 53)

109. The Commission proposes to modify the definition of “Trade Date” to: “The date upon which the parties made the legally binding agreement on the price of a transaction. If the `Trade Date' cannot be identified, then report the `Execution Date' in the `Trade Date' data field.” The current definition of “Trade Date” is: “The date upon which the parties made the legally binding agreement on the price of a transaction.” Currently, “Trade Date” is required only for transactions associated with a contract executed on or after July 1, 2013.⁶³ The Commission proposes to remove the July 1, 2013 date limitation and require a “Trade Date” to be reported for all transactions, including those associated with a contract executed prior to July 1, 2013. Removing the current date limitation and enabling the collection of information about trade date or transactions, regardless of when parties executed the relevant contract, would result in more complete and consistent transactional information. If the “Trade Date” cannot be determined, particularly in the case of older contracts, then filers should report the “Contract Execution Date” as the “Trade Date.”

⁶³ See Order No. 768-A, 143 FERC ¶ 61,054 at P 44 (where the Commission stated that “the Trade Date requirement will be applied prospectively so that only the Trade Date for transactions entered into on or after July 1, 2013 and reported in the third quarter of 2013 EQR must be reported.”)

45. Exchange/Brokerage Service (Current Field No. 54)

110. The Commission proposes to cease collecting Exchange/Brokerage Service data (Current Field No. 54), as explained in Section IV.A.4 of this NOPR.

46. Type of Rate (Current Field No. 55)

111. The Commission proposes to modify the definition of the reporting option, “Electric Index,” in the “Type of Rate” data field to: “A calculation of a rate based upon an index or a formula that contains an electric index component. An electric index includes an index published by an index publisher, such as ICE and the Chicago Mercantile Exchange Group (CME), or a price published by an RTO/ISO (e.g., PJM West or Illinois Hub). If the transaction uses an electric-based index in any way, either as a base price or as a means to determine a basis, report as electric index.” The purpose of this modification is to provide clarity for filers regarding reporting requirements. In addition, as with reporting “Trade Date,” “Standardized Price” and “Standardized Quantity,” “Type of Rate” data is currently required only for transactions associated with a contract executed on or after July 1, 2013.⁶⁴ The Commission proposes to remove the July 1, 2013 date limitation and require a “Type of Rate” to be reported for all transactions, including those associated with a contract executed prior to July 1, 2013. Removing the current date limitation and enabling the collection of information about the type of rate for transactions, regardless of when parties executed the relevant contract, would result in more complete and consistent transactional information.

⁶⁴ See Order No. 768-A, 143 FERC ¶ 61,054 at P 47.

47. Time Zone (Current Field No. 56)

112. The Commission proposes to modify the definition of “Time Zone” to: “The time zone where the transaction takes place” from the current definition of: “The time zone in which the sale was made.” Sellers may continue to report the “Time Zone” based on the delivery point or where the trade occurs because some Sellers may capture trades in their reporting systems based on the time zone associated with the delivery point of a trade and other Sellers may capture trades based on the time zone associated with where the Seller's trading offices are located. Additionally, the use of the term “transaction” instead of “sale” is more consistent with other reported Transaction Data in the EQR.

48. Point of Delivery Balancing Authority (PODBA) (Current Field No. 57)

113. Similar to the proposed modification to the “Point of Delivery Balancing Authority (PODBA)” field name in the Contract Data (Field No. 41), the Commission proposes to update this data field name to “Point of Delivery Balancing Authority Area (PODBAA).” The Commission proposes to modify the definition of “PODBA” in the Transaction Data (Current Field No. 57) to: “The registered Balancing Authority Area abbreviation used in OASIS applications. If delivery occurs at a trading hub, then report the standardized hub name from the list of allowable names.” As explained for Current Field Nos. 39 and 41, this definition reflects current NERC nomenclature. The Commission also proposes to remove the reference to NERC Control Area in the definition. The current definition of “PODBA” in the Transaction Data is: “The registered Balancing Authority (formerly called NERC Control Area) abbreviation used in OASIS applications.”

49. Point of Delivery Specific Location (PODSL) (Current Field No. 58)

114. The Commission proposes to modify the definition of PODSL in the Transaction Data (Current Field No. 58) to “The specific location at which the product is delivered. If delivery occurs at a trading hub, then the specific location is not required.” The current definition of PODSL in the Transaction Data of the EQR is: “The specific location at which the product is delivered. If receipt occurs at a trading hub, a standardized hub name must be used.” We propose to remove the requirement to report the hub name in this field because this information, if applicable, would already be captured in the modified PODBAA field (Current Field No. 57) in the Transaction Data.

50. Class Name (Current Field No. 59)

115. The Commission proposes to eliminate the reporting option “BA-Billing Adjustment” in the “Class Name” field in the Transaction Data, as discussed in Section IV.A.1 of this NOPR. The other reporting options for “Class Name,” “F—Firm,” “NF—Non-firm,” “UP—Unit Power Sale,” and “N/A—Not Applicable” would remain unchanged.

51. Term Name (Current Field No. 60)

116. The Commission proposes to modify the definition of “Term Name” in the Transactions Section of the EQR to: “Transactions with durations of one year or greater are long-term. Transactions with shorter durations are short-term.” The current definition of “Term Name” (Current Field No. 60) in the Transaction Data of the EQR is: “Power sales transactions with durations of one year or greater are long-term. Transactions with shorter durations are short-term.” The proposed definition removes the words “Power sales” to conform with other EQR data fields.

52. Transaction Quantity, Transaction Price (Current Field Nos. 64-65)

117. The current EQR system imposes a limit of four and six characters, respectively, after a decimal point for “Transaction Quantity” (Current Field No. 64) and “Price” (Current Field No. 65). The Commission proposes to increase the decimal limit to ten decimal places to allow Sellers to report very small quantities and allow more complete accounting of transactional data.

53. Standardized Quantity (Current Field No. 67)

118. The Commission proposes to modify the definition of “Standardized Quantity” to: “For Product Names Energy, Capacity, and Booked Out Power only. Specify the quantity in MWh if the product is Energy or Booked Out Power and specify the quantity in MW-month if the product is Capacity.”

119. The current definition of “Standardized Quantity” is: “For product names energy, capacity, and booked out power only. Specify the quantity in MWh if the product is energy or booked out power and specify the quantity in MW-month if the product is capacity or booked out power.” The Commission proposes to remove the phrase “or booked out power” used at the end of the current definition to ensure that Booked Out Power transactions are reported in MWh and not MW-month, which should only be used for Capacity transactions.

120. As with reporting “Trade Date,” “Type of Rate,” and “Standardized Price,” “Standardized Quantity” data is currently required only for transactions associated with a contract executed on or after July 1, 2013.⁶⁵ The Commission proposes to remove the July 1, 2013 date limitation and require a “Standardized Quantity” to be reported for all transactions. Removing the current date limitation and enabling the collection of information about standardized quantities for transactions, regardless of when parties executed the relevant contract, would result in more complete and consistent transactional information. The Commission also proposes to increase the four-decimal limit to ten decimal places for “Standardized Quantity” to allow Sellers to report very small quantities and allow more complete accounting of transactional data.

⁶⁵ See id. P 50.

54. Standardized Price (Current Field No. 68)

121. The Commission proposes to modify the definition of “Standardized Price” to: “For Product Names Energy, Capacity, and Booked Out Power only. Specify the price in $/MWh if the product is Energy or Booked Out Power and specify the price in $/MW-month if the product is capacity.” The current definition of “Standardized Price” is: “For product names energy, capacity, and booked out power only. Specify the price in $/MWh if the product is energy or booked out power and specify the price in $/MW-month if the product is capacity or booked out power.” The Commission proposes to remove the phrase “or booked out power” used at the end of the current definition to ensure that Booked Out Power transactions are reported in $/MWh and not $/MW-month, which should only be used for Capacity transactions.

122. As with “Trade Date,” “Type of Rate,” and “Standardized Quantity,” the Commission proposes to remove the July 1, 2013 date limitation and require a “Standardized Price” to be reported for all transactions. “Standardized Price” data is currently required only for transactions associated with a contract executed on or after July 1, 2013.⁶⁶ Removing the current date limitation and enabling the collection of information about standardized prices for transactions, regardless of when parties executed the relevant contract, would result in more complete and consistent transactional information.

⁶⁶ See id.

123. The Commission also proposes to increase the six-decimal limit to ten decimal places for “Standardized Price” to allow Sellers to report very small quantities and allow more complete accounting of transactional data.

V. Proposed Continued Collection of Current Data Fields

124. Under this NOPR, the requirements for reporting information related to the following data fields would remain unchanged: ⁶⁷

⁶⁷ The “*” designates data fields with increases in decimal limits, but no other modifications.

• “Extension Provision Description” (Current Field No. 25)

• “Increment Name” (Current Field Nos. 28 and 61)

• “Quantity” (Current Field No. 32) (in the Contract Data only)

• “Units” (Current Field No. 33) (in the Contract Data only)

• “Rate” (Current Field No. 34)

• “Rate Minimum” (Current Field No. 35)

• “Rate Maximum” (Current Field No. 36)

• “Increment Peaking Name” (Current Field No. 62) (in the Transaction Data only)

• “Transaction Quantity” (Current Field No. 64) *

• “Price” (Current Field No. 65) *

• “Total Transmission Charge” (Current Field No. 69)

• “Total Transaction Charge” (Current Field No. 70)

VI. Fields Dependent on Future System Design

125. Possible revisions to certain system-generated data fields, including “Filer Unique Identifier” (Current Field No. 1),⁶⁸ “Contract Unique ID” (Current Field No. 15), and “Transaction Unique ID” (Current Field No. 45), depend on the outcome of the system design phase for XBRL-CSV. Therefore, any proposed changes to these current data fields are not set forth in this NOPR. The proposed reporting requirements and definitions for these data fields would be issued after publication of the FERC EQR taxonomies and interested parties would be able to provide comments.

⁶⁸ As discussed above, the Commission proposes to delete “Filer Unique Identifier” (Current Field No. 71) in connection with the current requirement for a Seller to identify whether its transactions were reported to index price publishers.

VII. Information Collection Statement

126. The collection of information contained in this proposed rule is being submitted to the Office of Management and Budget (OMB) for review under section 3507(d) of the Paperwork Reduction Act of 1995, 44 U.S.C. 3507(d). We solicit comments on the Commission's need for this information, whether the information will have practical utility, the accuracy of the provided burden estimates, ways to enhance the quality, utility, and clarity of the information to be collected, and any suggested methods for minimizing respondents' burden, including the use of automated information techniques. Specifically, the Commission asks that any proposed burden or cost estimates submitted by commenters be supported by sufficient detail to understand how the proposed estimates are generated. Respondents subject to the filing requirements of this proposed rule will not be penalized for failing to respond to these collections of information unless the collections of information display a valid OMB control number.

127. The proposed rule will affect entities required to file an EQR and RTOs/ISOs. The estimated hourly cost is based on FERC's 2022 Commission-wide average salary cost (salary plus benefits) of $91.00/hour. The Commission staff believes the FERC full-time equivalent (FTE) average cost for wages plus benefits is representative of the corresponding cost for the industry respondents.

128. The revisions proposed in this NOPR would: (a) implement a new collection method based on the XBRL-CSV standard; (b) require RTOs and ISOs to produce reports containing market participant transaction data in XBRL-CSV format that adhere to the FERC EQR taxonomies; and (c) make substantive changes to eliminate or modify the information collected in the EQR. The information collected in the EQR is required to be submitted quarterly to the Commission under existing regulations and reporting requirements adopted under the FPA. Compliance with the changes proposed in this NOPR would be mandatory. We estimate that affected respondents would incur the following burden and other costs.⁶⁹

⁶⁹ Burden is the total time, effort, or financial resources expended by persons to generate, maintain, retain, or disclose or provide information to or for a Federal agency. For further explanation of what is included in the information collection burden, refer to 5 CFR 1320.3.

Table No. 1—Changes in Burden for the Data Collected Due to Modification of Data Fields and Associated Requirements
No. | Formula | Incremental burden category | Currently approved | Updated total for the data collected in the EQR | Difference between currently approved and updated total
(a) |  | Number of Respondents ⁷⁰ | 2,929 | 3,111 | 182
(b) |  | Annual Number of Responses per Respondent | 4 | 4 | 0
(c) | (a)(b) = (c) | Total Annual Number of Responses | 11,716 | 12,444 | 728
(d) |  | Average Burden Hours per Response ⁷¹ | 18.1 | 20.3 | 2.2
(e) |  | Hourly Cost per Response ⁷² | $87 | $91 | $4
(f) | (b)(d) = (f) | Total Annual Burden Hours per Respondent ⁷³ | 72.4 | 81.2 | 8.8
(g) | (d)(e) = (g) | Total Burden Cost per Response | $1,575 | $1,847 | $272
(h) | (b)(g) = (h) | Total Annual Burden Cost per Respondent | $6,300 | $7,389 | $1,089
(i) | (a)(f) = (i) | Total Annual Burden Hours for All Respondents | 212,060 | 252,613 | 40,553
(j) | (e)(i) = (j) | Total Annual Burden Cost for All Respondents | $18,449,220 | $22,987,783 | $4,538,563

129. The compliance burden estimate for the proposed substantive changes to the information collected in the EQR are reflected as changes to previously approved estimates submitted to OMB for the EQR (FERC-920 (OMB Control No. 1902-0255)), as shown in Table No. 1 in the Column labeled Currently Approved. We estimate that the number of respondents has increased to 3,111 based on normal industry fluctuations.⁷⁴ The estimated burden increase of 2.2 hours per response to comply with the modification of data fields and associated requirements, as shown in Table No. 1, Row (d), results in a new total Average Burden Hours per Response of 20.3 hours. The Annual Burden Cost per Respondent for complying with the proposed modifications to the EQR reporting requirements would increase by $1,600, bringing the total estimated Annual Burden Cost per Respondent to $7,389 (Table No. 1, Row (h)).

⁷⁰ The Number of Respondents of 2,929 is based on the OMB inventory of respondents, current as of the issuance of this NOPR.

⁷¹ The estimated increase in Average Burden Hours per Response is 2.2 hours, where the estimated Year 1 hours are 3.6, Year 2 hours are 2, and Year 3 hours is 1 ((3.6 + 2 + 1)/3 = 2.2 hours).

⁷² The estimated hourly cost is based on FERC's 2022 Commission-wide average salary cost (salary plus benefits) of $91.00/hour. The Commission staff believes the FERC FTE average cost for wages plus benefits is representative of the corresponding cost for the industry respondents. Therefore, we are updating the hourly pay rate of $87 used in the 2021 OMB renewal of the EQR collection to reflect the cost of $91.00/hour.

⁷³ The formulas shown in Table No. 1 apply solely to the Columns labeled Currently Approved and Updated Total for the Data Collected in the EQR.

⁷⁴ The estimated number of respondents is based on the 2022 Q3 EQR submissions.

Table No. 2—One-Time Formatting Submission in XBRL-CSV for First Quarter of First Year, Burden Estimate for Submission in XBRL-CSV
Row No. | Formula | Incremental burden category | Filers using FERC templates for submissions | Filers creating XBRL-CSV submissions | Filers with no change to submission
|  |  | (A) | (B) | (C)
(a) |  | Number of Respondents ⁷⁵ | 1,866 | 778 | 467
(b) |  | Number of Responses per Respondent | 1 | 1 | 1
(c) | (a)(b) = (c) | Total Number of Responses | 1,866 | 778 | 467
(d) |  | Average Burden Hours per Response | 5 | 20 | 1
(e) |  | Hourly Cost per Response | $91 | $91 | $91
(f) | (b)(d) = (f) | Total Burden Hours per Respondent | 5 | 20 | 1
(g) | (d)(e) = (g) | Total Burden Cost per Response | $455 | $1,820 | $91
(h) | (b)(g) = (h) | Total Burden Cost per Respondent | $455 | $1,820 | $91
(i) | (a)(f) = (i) | Total 1st Quarter Burden Hours | 9,330 | 15,560 | 467
(j) | (e)(i) = (j) | Total 1st Quarter Burden Cost | $849,030 | $1,415,960 | $42,497

⁷⁵ For the first filing of Year 1: 60% of Respondents would use the FERC Templates for submissions, 25% would create an XBRL-CSV submission, and 15% would have no change to their submission.

Table No. 3—First Year, Quarters 2, 3 & 4 Burden Estimate for Submission in XBRL-CSV
Row No. | Formula | Burden category | Filers using FERC templates for submissions | Filers creating XBRL-CSV submissions | Filers with no change to submission
|  |  | (A) | (B) | (C)
(k) |  | Number of Respondents ⁷⁶ | 1,866 | 778 | 467
(l) |  | Number of Responses per Respondent for Quarters 2, 3, and 4 of First Year | 3 | 3 | 3
(m) | (k)(l) = (m) | Total Number of Responses for Quarters 2, 3, and 4 of First Year | 5,598 | 2,334 | 1,401
(n) |  | Average Burden Hours Per Response | 2 | 3 | 1
(o) |  | Hourly Cost Per Response | $91 | $91 | $91
(p) | (l)(n) = (p) | Total Burden Hours per Respondent | 6 | 9 | 3
(q) | (n)(o) = (q) | Total Burden Cost per Response | $182 | $273 | $91
(r) | (l)(q) = (r) | Total Burden Cost per Respondent | $546 | $819 | $273
(s) | (k)(p) = (s) | Total Burden Hours for Quarters 2-4 of First Year | 11,196 | 7,002 | 1,401
(t) | (k)(r) = (t) | Total Burden Cost for Quarters 2-4 of First Year | $1,018,836 | $637,182 | $127,491

⁷⁶ For Year 1, quarters 2 through 4: 60% of Respondents would use the FERC Templates for submissions, 25% would create an XBRL-CSV submission, and 15% would have no change to their submission.

Table No. 4—Years 2 & 3 Annual Burden Estimate for Submission in XBRL-CSV
Row No. | Formula | Burden category | Filers using FERC templates for submissions | Filers creating XBRL-CSV submissions | Filers with no change to submission
|  |  | (A) | (B) | (C)
(u) |  | Number of Respondents ⁷⁷ | 1,866 | 778 | 467
(v) |  | Annual Number of Responses Per Respondent | 4 | 4 | 4
(w) | (u)(v) = (w) | Total Annual Number of Responses | 7,464 | 3,112 | 1,868
(x) |  | Average Burden Hours Per Response | 1 | 1 | 0.25
(y) |  | Hourly Cost Per Response | $91 | $91 | $91
(z) | (x)(y) = (z) | Total Burden Cost per Response | $91 | $91 | $23
(D) | (v)(x) = (D) | Total Annual Burden Hours per Respondent | 4 | 4 | 1
(E) | (D)(y) = (E) | Total Annual Burden Cost per Respondent | $364 | $364 | $91
(F) | (x)(w) = (F) | Total Annual Burden Hours for All Respondents | 7,464 | 3,112 | 467
(G) | (F)(y) = (G) | Total Annual Burden Cost for All Respondents | $679,224 | $283,192 | $42,497

⁷⁷ For Years 2 and 3: 60% of Respondents would use the FERC Templates for submissions, 25% would create an XBRL-CSV submission, and 15% would have no change to their submission.

Table No. 5—Summary of Burden for Formatting Submission in XBRL-CSV for Years 1 Through 3
Row No. | Formula | Description | Totals
(H) | (iA) + (iB) + (iC) + (sA) + (sB) + (sC) + 2((FA) + (FB) + (FC)) = (H) | Three-Year Total Burden Hours | 67,042
(I) | (H)/3 = (I) | Average Burden Hours Per Year (forecast through third year) | 22,347
(J) | (H)(yA) = (J) | Three-Year Total Burden Cost | $6,100,822
(K) | (J)/3 = (K) | Average Annual Total Burden Cost (forecast through third year) | $2,033,607

130. The burden estimate related to changing the submission format to XBRL-CSV is shown in Table Nos. 2 through 5. The estimate presents three options, in different time periods, for filers to: (1) submit the EQRs using pre-formatted FERC Templates that adhere to the FERC EQR taxonomies (Column (A) of Table Nos. 2-4); (2) prepare XBRL-CSV submission files that adhere to the FERC EQR taxonomies (Column (B) of Table Nos. 2-4), or (3) submit a response that indicates there was no change from the previous quarter (Column (C) of Table Nos. 3-4). We estimate that 60% of filers would be able to use the FERC Templates and that the burden would decrease over time. For the filers using the FERC Templates, the Total Burden Cost per Respondent for the first quarter of the first year would be $455, and would decrease to $182 on a quarterly basis for quarters 2 through 4 of the first year, and would decrease further to $91 per response for Years 2 and 3. For the filers creating XBRL-CSV submissions, the Total Burden Cost per Respondent would follow a similar downward quarterly trend over time. For the filers that only report Identification Data or Identification and Contract Data, and have no change to the submission from the previous quarter, the Total Burden Cost per Respondent would remain one hour per quarter over Years 1-3. This proposed submission option would simplify the EQR filing process for those Sellers that do not report Transaction Data.

131. As shown in Table No. 4, Row (u), after the first submission in XBRL-CSV, we estimate that 467 Respondents, i.e., 15% of the 3,111 Total Respondents, as shown in Table No. 1, Row (a), would elect to use the proposed new option that would only require filers to confirm that no changes to the EQR occurred from the previous quarter. We estimate that 1,866 Respondents, as shown in Table No. 3, Row (k), i.e., 60% of 3,111 Total Respondents, would continue to use the FERC Templates in the second quarter of Year 1 and beyond. The Average Burden Hours per Respondent for filers creating their own XBRL-CSV submissions (i.e., 778 Respondents),⁷⁸ as shown in Table No. 3, Row (k), Column (B), decreases on a quarterly basis from 20 hours in the first quarter of Year 1, to 9 hours for each of the remaining quarters of Year 1, and 4 hours for each quarter in Years 2-3. We anticipate that the Annual Burden Hours per Respondent would decrease further, as these Respondents become more familiar with the new system.

⁷⁸ Calculated as 25% of 3,111 Total Respondents, as shown in Table No. 4, Row (u).

132. As reflected in Table Nos. 2 through 4, we estimate that changing the submission format to XBRL-CSV would result in the following expenses. Filers using FERC Templates would incur a total expense of $1,729 for Years 1 through 3.⁷⁹ For those filers creating XBRL-CSV submissions, we expect a total expense of $3,367 for the same time period.⁸⁰ Finally, for those filers with no changes to their submissions after the initial quarter of Year 1, we expect a total expense of $546 for the same time period.⁸¹

⁷⁹ $1,729 is the sum total of $455 (Table No. 2, Row (h), Column (A)) + $546 (Table No. 3, Row (r), Column (A)) + ($364*2) (Table No. 4, Row (E), Column (A), where $364 is multiplied by 2 to reflect the Total Annual Burden Cost per Respondent for Years 2 and 3).

⁸⁰ $3,367 is the sum total of $1,820 (Table No. 2, Row (h), Column (B)) + $819 (Table No. 3, Row (r), Column (B)) + ($364*2) (Table No. 4, Row (E), Column (B), where $364 is multiplied by 2 to reflect the Total Annual Burden Cost per Respondent for Years 2 and 3).

⁸¹ $546 is the sum total of $91 (Table No. 2, Row (h), Column (C)) + $273 (Table No. 3, Row (r), Column (C)) + ($91*2) (Table No. 4, Row (E), Column (C), where $91 is multiplied by 2 to reflect the Total Annual Burden Cost per Respondent for Years 2 and 3).

133. Table Nos. 6 through 8 estimate the burden on RTOs/ISOs to produce and make available transaction data reports that adhere to the FERC EQR taxonomies for use by their market participants in submitting EQRs. Table No. 6 outlines the burden estimate for RTOs/ISOs to implement this proposed requirement in the first year. Specifically, for RTOs/ISOs that currently produce EQR transaction data reports for their market participants, the first year's Total Burden Cost per Respondent to create XBRL-CSV formatted reports, as shown in Row (h), Column (A) of Table No. 6, is estimated to be $6,108. For RTOs/ISOs that do not currently produce EQR transaction data reports for their market participants, the first year's Total Burden Cost per Respondent is estimated to be $24,432, as shown in Row (h), Column (B) of Table No. 6. Table No. 7 reflects the estimated annual costs that RTOs/ISOs would incur in Years 2 and 3 to maintain their systems.

Table No. 6—First Year Burden Estimate for RTO/ISO Reports
Row No. | Formula | Burden category | RTOs/ISOs with existing EQR transaction data reports | RTOs/ISOs without existing EQR transaction data reports
|  |  | (A) | (B)
(a) |  | Number of Respondents | 5 | 1
(b) |  | Response per Respondent to Incorporate New System Requirements | 1 | 1
(c) | (a)(b) = (c) | Total Number of Responses | 5 | 1
(d) |  | Average Burden Hours per Response | 80 | 320
(e) |  | Hourly Cost per Response ⁸² | $76.35 | $76.35
(f) | (d)(e) = (f) | Total Burden Cost per Response | $6,108 | $24,432
(g) | (b)(d) = (g) | Total Burden Hours per Respondent | 80 | 320
(h) | (g)(e) = (h) | Total Burden Cost per Respondent | $6,108 | $24,432
(i) | (a)(g) = (i) | Total Annual Burden Hours for All Respondents | 400 | 320
(j) | (i)(e) = (j) | Total Annual Burden Cost | $30,540 | $24,432

⁸² The estimated hourly costs (salary plus benefits) are based on Bureau of Labor Statistics information, as of May 2022 (at http://www.bls.gov/oes/current/naics2_22.htm, with updated benefits information for March 2022 at http://www.bls.gov/news.release/ecec.nr0.htm), for a Computer and Information Analyst (15-1210).

Table No. 7—Annual Burden Estimate for RTO/ISO Reports, Forecasted for Years 2 and 3
Row No. | Formula | Burden category | All RTO/ISO
|  |  | (E)
(k) |  | Number of Respondents | 6
(l) |  | Annual Number of Responses per Respondent | 1
(m) | (k)(l) = (m) | Total Number of Responses | 6
(n) |  | Average Burden hours per Response | 36
(o) |  | Hourly Cost per Response | $76.35
(p) | (n)(o) = (p) | Total Burden Cost per Response | $2,749
(q) | (l)(n) = (q) | Total Annual Burden Hours per Respondent | 36
(r) | (q)(o) = (r) | Total Burden Cost per Respondent | $2,749
(s) | (k)(q) = (s) | Total Annual Burden Hours | 216
(t) | (o)(s) = (t) | Total Annual Burden Cost | $16,492

Table No. 8—Summary of Burden for All RTOs/ISOs for Years 1 Through 3
Row No. | Formula | Burden category | Totals
(u) | (iA) + (iB) + 2(sE) = (u) | Three-Year Total Burden Hours | 1,152
(v) | (v) = (u)/3 | Average Burden Hours Per Year | 384
(w) | (u)(o) = (w) | Three-Year Total Burden Cost | $87,955
(x) | (x) = (w)/3 | Average Annual Total Burden Cost | $29,318

134. The Commission proposes to direct its staff to help Sellers and RTOs/ISOs with the initial implementation of the proposed reporting requirements and filing process by convening staff-led technical conference(s). The conference(s) would be available by webcast.

Title: FERC-920, Electric Quarterly Report (EQR) [OMB No.: 1902-0255].

Action: Proposed new EQR filing system and additional reporting requirements for all filers.

OMB Control No.: 1902-0255.

Respondents: Electric utilities.

Frequency of Responses: Quarterly.

Necessity of the Information: The Commission proposes to implement a new collection method for EQR reporting based on the XBRL-CSV standard; amend its regulations to require Regional Transmission Organizations (RTO) and Independent System Operators (ISO) to produce reports containing market participant transaction data; and modify or clarify EQR reporting requirements.

Internal Review: The Commission has reviewed the proposed changes and has determined that the changes are necessary. These requirements conform to the Commission's need for efficient information collection, communication, and management within the energy industry. The Commission has assured itself, by means of internal review, that there is specific, objective support for the burden estimates associated with the information collection requirements.

135. Interested persons may obtain information on the reporting requirements by contacting the following: Federal Energy Regulatory Commission, 888 First Street NE, Washington, DC 20426 [Attention: Ellen Brown, Office of the Executive Director, email: DataClearance@ferc.gov, phone: (202) 502-8663]. Please send comments concerning the collection of information and the associated burden estimates to the Commission.

VIII. Environmental Analysis

136. The Commission is required to prepare an Environmental Assessment or an Environmental Impact Statement for any action that may have a significant adverse effect on the human environment.⁸³ The Commission has categorically excluded certain actions from this requirement as not having a significant effect on the human environment.⁸⁴ The proposed rule is categorically excluded as an electric rate filing submitted by a public utility under sections 205 and 206 of the FPA.⁸⁵ Accordingly, no environmental assessment is necessary and none has been prepared in this NOPR.

⁸³ Reguls. Implementing the Nat'l Envt'l Pol'y Act, Order No. 486, 52 FR 47897 (Dec. 17, 1987), FERC Stats. & Regs. ¶ 30,783 (1987) (cross-referenced at 41 FERC ¶ 61,284).

⁸⁴ 18 CFR 380.4.

⁸⁵ 18 CFR 380.4(a)(15).

IX. Regulatory Flexibility Act

137. The Regulatory Flexibility Act of 1980 (RFA) ⁸⁶ generally requires a description and analysis of proposed rules that will have significant economic impact on a substantial number of small entities. The Commission is not required to perform this sort of analysis if the proposed activities within the NOPR would not have such an effect.

⁸⁶ 5 U.S.C. 601-612.

138. As discussed above, the EQR is required to be filed under FPA sections 205(c) and 220. The NOPR proposes updates to the filing requirements and the method through which respondents submit EQR data to the Commission. The annual cost currently associated with filing the EQR is $6,300 per respondent, which includes preparing the data and submitting it to the Commission. The Commission estimates an increase of $1,089 per respondent to the annual cost of filing EQRs as a result of implementing the proposed modifications to the data fields and associated requirements. In addition, the Commission estimates an increase in the first-year cost for submitting EQRs using XBRL-CSV. The costs for submitting the EQR in XBRL-CSV would be $1,001 per respondent for the 60% of filers that are anticipated to use FERC Templates; $2,639 for the 25% of respondents that are anticipated to create their own XBRL-CSV submission system; and $364 for the remaining 15% of respondents that are anticipated to have no change to their submission during the first year.

139. In Years 2 and 3, the Commission estimates that the XBRL-CSV submission cost would decline to a level of $364 for the respondents that used FERC Templates or created their own systems. For respondents that submit EQRs without changes in Year 1, the annual cost would decline to $91 per respondent. The cost for Year 2 or 3 per respondent would be $1,180, calculated as ($1,089 + $91) if a respondent submits no changes to its data in the proposed system, and $1,453, calculated as ($1,089 + $364) if a respondent uses the FERC Templates or develops its own XBRL-CSV system. For Years 2 and 3, the percentage of respondents selecting each submission option is estimated to remain as stated for Year 1. The Commission estimates that the relatively small increase in EQR filing costs for Years 1 through 3 following the implementation of the proposed modifications would not have a significant economic impact on small entities.

140. In the second quarter of 2022 (Q2 2022), the Commission received 3,058 EQR filings. Among the Sellers were electric utilities and other companies that are required to file the EQR, and therefore are subject to the requirements adopted by this rule. To evaluate if this NOPR will significantly impact small entities, the Commission used a random sample (342 entities) of Q2 2022 filers and researched the number of companies that would be categorized as small as defined by the Small Business Administration (SBA).⁸⁷ Since the EQR is required by a range of filers, there was also a range in number of employees due to the type of power generation, transmission, or distribution. The employee totals ranged from 250 employees (e.g., solar) to 1,000 employees (e.g., electric power distribution).

⁸⁷ The small business size standards are provided in 13 CFR 121.201. In 13 CFR 121.201, the SBA uses the North American Industry Classification System (NAICS) codes. The Commission used the SBA standards for the utilities subsector (221). [NAICS Codes 221111 (Hydroelectric Power Generation), 221112 (Fossil Fuel Electric Power Generation), 221113 (Nuclear Electric Power Generation), 221114 (Solar Electric Power Generation), 221115 (Wind Electric Power Generation), 221116 (Geothermal Electric Power Generation), 221117 (Biomass Electric Power Generation, 221118 (Other Electric Power Generation), 221121 (Electric Bulk Power Transmission Control), 221122 (Electric Power Distribution)]. SBA classifies utilities subsector companies with 250 to 1000 employees as small businesses depending on more specific industry categories.

141. Using the random sample of 342 filers for Q2 2022, the Commission estimates 143 entities would be considered small as defined by SBA regulations. All of the small entities in our analysis fall under the 1,000 employee threshold, in fact, they fall under the 250-employee threshold or are unknown, in which case, we assume they are small entities. Furthermore, the Commission estimates that 199 entities would surpass the small business threshold according to the SBA standards. Out of the Commission's random sample, approximately 42% of respondents would be considered small and 58%—the majority of respondents—would not be considered small.

142. Given the number of respondents that are categorized as small, the Commission is taking steps to ease the burden of the transition by helping respondents through technical conference(s). This mechanism can be used by all firms that would be required to comply with a final rule in this proceeding and are intended to reduce the transition burden. Additionally, the proposed FERC Templates can be used to reduce the need for a respondent to create their own XBRL-CSV system.

143. The Commission finds that the additional support provided by the technical conference(s) and templates will reduce the economic burden below the threshold of significant.

144. Accordingly, the Commission certifies that the revised requirements set forth in this NOPR will not have a significant economic impact on a substantial number of small entities, and no regulatory flexibility analysis is required.

X. Comment Procedures

145. The Commission invites interested persons to submit comments on the matters and issues proposed in this document to be adopted, including any related matters or alternative proposals that commenters may wish to discuss. Comments are due December 26, 2023. Comments must refer to Docket No. RM23-9-000, and must include the commenter's name, the organization they represent, if applicable, and their address in their comments. All comments will be placed in the Commission's public files and may be viewed, printed, or downloaded remotely as described in the Document Availability section below. Commenters on this proposal are not required to serve copies of their comments on other commenters.

146. The Commission encourages comments to be filed electronically via the eFiling link on the Commission's website at https://www.ferc.gov. The Commission accepts most standard word processing formats. Documents created electronically using word processing software must be filed in native applications or print-to-PDF format and not in a scanned format. Commenters filing electronically do not need to make a paper filing.

147. Commenters that are not able to file comments electronically may file an original of their comment by USPS mail or by courier-or other delivery services. For submission sent via USPS only, filings should be mailed to: Federal Energy Regulatory Commission, Office of the Secretary, 888 First Street NE, Washington, DC 20426. Submission of filings other than by USPS should be delivered to: Federal Energy Regulatory Commission, 12225 Wilkins Avenue, Rockville, MD 20852.

XI. Document Availability

148. In addition to publishing the full text of this document in the Federal Register, the Commission provides all interested persons an opportunity to view and/or print the contents of this document via the internet through the Commission's Home Page (http://www.ferc.gov).

149. From the Commission's Home Page on the internet, this information is available on eLibrary. The full text of this document is available on eLibrary in PDF and Microsoft Word format for viewing, printing, and/or downloading. To access this document in eLibrary, type the docket number excluding the last three digits of this document in the docket number field.

150. User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov to schedule access to view the contents of this document in person during normal business hours (8:30 a.m. to 5:00 p.m. Eastern time) at 888 First Street NE, Washington, DC 20426.

List of Subjects in 18 CFR Part 35

Electric power rates, Electric utilities, Reporting and recordkeeping requirements.

By direction of the Commission.
Issued October 19, 2023.
Kimberly D. Bose,
Secretary.

In consideration of the foregoing, the Commission proposes to amend 18 CFR Chapter I, Part 35, as set forth below:

PART 35—FILING OF RATE SCHEDULES AND TARIFFS

1. The authority citation for Part 35 continues to read as follows:

Authority: 16. U.S.C. 791a-825r, 2601-2645; 31 U.S.C. 9701; 42 U.S.C. 7101-7352.

2. Amend § 35.10b by revising the introductory text and adding paragraph (d) to read as follows:

§ 35.10b Electric Quarterly Reports.

Each public utility as well as each non-public utility with more than a de minimis market presence shall file an updated Electric Quarterly Report with the Commission covering all services it provides pursuant to this part, for each of the four calendar quarters of each year, in accordance with the following schedule: for the period from January 1 through March 31, file by July 31; for the period from April 1 through June 30, file by October 31; for the period July 1 through September 30, file by January 31 of the following year; and for the period October 1 through December 31, file by April 30 of the following year. Electric Quarterly Reports must be prepared in conformance with the Commission's guidance posted on the FERC website (https://www.ferc.gov).

* * * * *

(d) Each RTO/ISO must prepare and make available transaction data reports that adhere to the Commission's filing and formatting requirements for use by its market participants in submitting their EQRs.

3. Amend § 35.41 by revising paragraph (c) to read as follows:

§ 35.41 Market behavior rules.

* * * * *

(c) Price reporting. To the extent a Seller engages in reporting of transactions to publishers of electric or natural gas price indices, Seller must provide accurate and factual information, and not knowingly submit false or misleading information or omit material information to any such publisher, by reporting its transactions in a manner consistent with the procedures set forth in the Policy Statement on Natural Gas and Electric Price Indices, issued by the Commission in Docket No. PL03-3-000, and any clarifications thereto. In addition, Seller must adhere to any other standards and requirements for price reporting as the Commission may order.

* * * * *

[FR Doc. 2023-23592 Filed 10-26-23; 8:45 am]

BILLING CODE 6717-01-P